DEPARTMENT OF DEFENSE

Office of the Secretary

32 CFR Part 161

[Docket ID: DoD-2009-OS-0184]

RIN 0790-AI61

Identification (ID) Cards for Members of the Uniformed Services, Their Dependents, and Other Eligible Individuals

AGENCY: Office of the Under Secretary of Defense for Personnel and Readiness, DoD.

ACTION: Interim rule with request for comments.

SUMMARY: The Department of Defense (DoD) proposes to establish policy, assign responsibilities, and provide procedures for the issuing of distinct DoD ID cards. The ID cards shall be issued to uniformed service members, their dependents, and other eligible individuals and will be used as proof of identity and DoD affiliation. Following the June 26, 2013, U.S. Supreme Court decision that found Section 3 of the Defense of Marriage Act unconstitutional, this rule also extends benefits to same sex spouses of Uniformed Service members and DOD civilians. The Department will now construe the words “spouse” and “marriage” to include same-sex spouses and marriages.

DATES: Effective date: This rule is effective on January 6, 2014.

Comment date: Comments must be received by March 7, 2014.

ADDRESSES: You may submit comments, identified by docket number and/or RIN number and title, by any of the following methods:

• Federal Rulemaking Portal: http://www.regulations.gov. Follow the instructions for submitting comments.

• Mail: Federal Docket Management System Office, 4800 Mark Center Drive, East Tower, Suite 02G09, Alexandria, VA 22350-3100.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Robert Eves, Defense Human Resources Activity, 571-372-1956.

SUPPLEMENTARY INFORMATION:

Executive Summary

I. Purpose of This Regulatory Action

Title 10, Sections 1061-1064, 1072-1074, 1074a-1074c, 1076, 1076a, 1077, and 1095 (k)(2), authorize members of the Uniformed Services (active duty, Reserve, or retired members) and their spouses and dependents certain benefits and privileges. Title 18, Sections 499, 506, 509, 701, and 1001, address penalties, fines and imprisonment for unauthorized reproduction of ID cards. The DoD ID cards authorize eligible individuals (to include specific categories of civilians and contractors) certain benefits and privileges to include health care; use of commissary; exchange; and morale, welfare, and recreation facilities.

This regulatory action:

a. Establishes policy, assigns responsibilities, and provides procedures for the issuing of all DoD ID cards.

b. Incorporates policy for the implementation of Homeland Security Presidential Directive (HSPD) 12 within DoD.

c. Incorporates Common Access Card (CAC) policy and issuance procedures.

d. Incorporates CAC eligibility requirements for Foreign National personnel.

e. Sets forth responsibilities and procedures for the DoD ID card life-cycle.

f. Prescribes the benefits for commissary; exchange; morale, welfare, and recreation (MWR); Military Health Services direct care in military treatment facilities (MTFs); and TRICARE civilian health care (CHC) in support of the members of the uniformed services, their dependents, and other eligible individuals.

II. Background

The current DoD Instruction, which establishes policy, assigns responsibilities, and provides procedures for issuing distinct DoD ID cards to uniformed service members, their dependents, and other eligible individuals, for proof of identity and DoD affiliation, was issued on December 5, 1997. DoD revised this instruction, updating the content and incorporating and canceling several policy memorandums, into a single instruction and two additional implementing manuals. The revised policy for ID cards was codified into a proposed rule which was published on August 6, 2010 (75 FR 47515). The June 26, 2013 U.S. Supreme Court decision in United States v. Windsor found Section 3 of the Defense of Marriage Act to be unconstitutional and the Department now construes the words “spouse” and “marriage” to include same-sex spouses and marriages.

III. Justification To Issue an Interim Rule

DOD is promulgating this interim rule without prior opportunity for public comment since the policy for ID cards was published as a proposed rule on August 6, 2010 (75 FR 47515) and no public comments were received. So, this interim rule makes final the content of the proposed rule.

With the June 26, 2013 Supreme Court decision in United States v. Windsor finding Section 3 of the Defense of Marriage Act unconstitutional, DoD is no longer prevented from extending Federal benefits to the same-sex spouses of DoD military members and civilian employees. As a result, in an August 13, 2013 Secretary of Defense Memorandum, “Extending Benefits to Same-Sex Spouses of Military Members,” the Secretary of Defense directed that, “. . . spousal and family benefits, including identification cards, will be made available to same-sex spouses no later than September 3, 2013,” (http://www.defense.gov/home/features/2013/docs/Extending-Benefits-to-Same-Sex-Spouses-of-Military-Members.pdf).

DoD issues approximately five million ID cards each year to military members, civilian employees, contractors, foreign nationals, and where applicable, family members. The Department estimates the number of ID cards which will need to be issued to same-sex spouses and their families represent less than one percent of the total ID cards issued in a year. The Department believes this rule relates to “agency management or personnel” and is exempt under sec. 553(a)(2) from all requirements of sec. 533. Nevertheless, pursuant to 41 U.S.C. 1707, DoD will consider public comments received in response to this interim rule in the formation of the Department's final rule.

IV. Costs and Benefits of This Regulatory Action

There are no costs to the public. There are no capital or start-up costs associated with the issuance of this rule. ID cards cost the Department approximately $28.3 million annually.

V. Executive Orders 12866 and 13563

Under Executive Orders (E.O.s) 12866 and 13563, the Department has determined that this interim rule is a significant regulatory action, though not an economically significant one, and it has been reviewed by OMB.

It has been certified that 32 CFR part 161 does not:

(1) Have an annual effect on the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in these Executive Orders.

VI. Regulatory Flexibility Act

Pursuant to section 605(b) of the Regulatory Flexibility Act (5 U.S.C. 601 et seq.), the DoD certifies that the interim rule will not have a significant economic impact on a substantial number of small entities.

VII. Unfunded Mandates Reform Act

Per the Unfunded Mandates Reform Act of 1995 and E.O. 12875, this rule will not create an unfunded Federal mandate upon any State, local, or tribal government in the aggregate of $100 million or more. It also does not result in increased expenditures of the privacy sector of $100 million or more.

VIII. Paperwork Reduction Act

Public Law 96-511, “Paperwork Reduction Act” (44 U.S.C. Chapter 35)

It has been certified that 32 CFR part 161 does impose reporting or recordkeeping requirements under the Paperwork Reduction Act of 1995. The Application for Department of Defense Identification Card/DEERS Enrollment collection has been cleared by OMB and assigned OMB Control Number 0704-0415.

Executive Order 13132, “Federalism”

It has been certified that 32 CFR part 161 does not have federalism implications, as set forth in Executive Order 13132. This rule does not have substantial direct effects on:

(1) The States;

(2) The relationship between the National Government and the States; or

(3) The distribution of power and responsibilities among the various levels of Government.

List of Subjects in 32 CFR Part 161

Administrative practice and procedure, Armed forces, Military personnel, National defense, Privacy, Security measures.

Accordingly, 32 CFR part 161 is added to subchapter F to read as follows:

PART 161—IDENTIFICATION (ID) CARDS FOR MEMBERS OF THE UNIFORMED SERVICES, THEIR DEPENDENTS, AND OTHER ELIGIBLE INDIVIDUALS

Subpart A—Identification (ID) Cards for Members of the Uniformed Services, Their Dependents, and Other Eligible Individuals
Sec.
161.1 Purpose.
161.2 Applicability.
161.3 Definitions.
161.4 Policy.
161.5 Responsibilities.
161.6 Procedures.
Subpart B—DoD Identification (ID) Cards: ID Card Life-Cycle
161.7 ID card life-cycle procedures.
161.8 ID card life-cycle roles and responsibilities.
Subpart C—DoD Identification (ID) Cards: Benefits for Members of the Uniformed Services, Their Dependents, and Other Eligible Individuals
161.9 DoD benefits,
161.10 Benefits for active duty members of the uniformed services.
161.11 Benefits for National Guard and Reserve members of the uniformed services.
161.12 Benefits for former uniformed services members.
161.13 Benefits for retired members of the uniformed services.
161.14 Benefits for MOH recipients.
161.15 Benefits for Disabled American Veterans (DAV).
161.16 Benefits for transitional health care members and dependents.
161.17 Benefits for surviving dependents.
161.18 Benefits for abused dependents.
161.19 Benefits for former spouses.
161.20 Benefits for civilian personnel.
161.21 Benefits for retired civilian personnel.
161.22 Benefits for foreign affiliates.

Authority: 10 U.S.C. 1061-1064, 1072-1074, 1074a-1074c, 1076, 1076a, 1077, and 1095(k)(2), and 18 U.S.C. 499, 506, 509, 701, and 1001.

Subpart A—Identification (ID) Cards for Members of the Uniformed Services, Their Dependents, and Other Eligible Individuals

§ 161.1 Purpose.

This part:

(a) Establishes policy, assigns responsibilities, and provides procedures for the issuing of distinct DoD ID cards. The ID cards shall be issued to uniformed service members, their dependents, and other eligible individuals and will be used as proof of identity and DoD affiliation.

(b) Sets forth responsibilities and procedures for the DoD ID card life-cycle in accordance with this part.

(c) Prescribes the benefits for commissary; exchange; morale, welfare, and recreation (MWR); Military Health Services direct care in military treatment facilities (MTFs); and TRICARE civilian health care (CHC) in support of the members of the uniformed services, their dependents, and other eligible individuals, in accordance with this part.

§ 161.2 Applicability.

This part applies to:

(a) The Office of the Secretary of Defense (OSD), the Military Departments (including the Coast Guard at all times, including when it is a Service in the Department of Homeland Security by agreement with that Department), the Office of the Chairman of the Joint Chiefs of Staff and the Joint Staff, the Combatant Commands, the Office of the Inspector General of the Department of Defense, the Defense Agencies, the DoD Field Activities, and all other organizational entities within the Department of Defense (hereafter referred to collectively as the “DoD Components”).

(b) The Commissioned Corps of the U.S. Public Health Service (USPHS), under agreement with the Department of Health and Human Services, and the National Oceanic and Atmospheric Administration (NOAA), under agreement with the Department of Commerce.

§ 161.3 Definitions.

Unless otherwise noted, these terms and their definitions are for the purpose of this part.

20/20/20, 20/20/15, or 10/20/10. See definition of “former spouse.”

Access to a DoD network. User logon to a Windows active directory account on the Nonsecure Internet Protocol Router Network (NIPRNet) or an authorized network operating system account on the NIPRNet.

Access to a DoD network (remote). Authorized NIPRNet users accessing a NIPRNet resource from:

(1) Another NIPRNet resource outside of the originating domain; or

(2) An authorized system that resides outside of the NIPRNet. This includes domain-level access from handheld devices. Remote access includes logon for the purposes of telework, Virtual Private Network, and remote administration by DoD or non-DoD personnel.

Active duty. Full-time duty in the active military service of the United States. This includes full-time training duty, annual training duty, and attendance, while in the active military service, at a school designated as a service school by law or by the Secretary of the Military Department concerned. Active duty does not include full-time National Guard duty.

Active duty for a period of more than 30 days. Active duty under a call or order that does not specify a period of 30 days or less. When the “Active Duty for a Period of More than 30 Days” is established by consecutive sets of orders, their eligible dependents become entitled to TRICARE medical benefits on the first day of the set of orders that brings the period of active duty over 30 days.

Adopted child. A child adopted before the age of 21 or, if enrolled in a full-time course of study at an institution of higher learning, before the age of 23. Except for entitlement to medical care, a child with an incapacitating condition that existed before the age of 21 or that occurred while the child was a full-time student prior to the age of 23, may be adopted at any age provided it is determined that there is a BONA FIDE parent-child relationship. Surviving children adopted by a non-military member after the death of the sponsor remain eligible for medical care only.

Annulled. The status of an individual, whose marriage has been declared a nullity by a court of competent jurisdiction, that restores unremarried status to a widow, widower, or former spouse for reinstatement of benefits.

Attainment of age 65. The first day of the month of the anniversary of the 65th birthday, unless the birthday falls on the first of the month. If the birthday is the first of the month, attainment of age 65 occurs on the first day of the preceding month.

Benefits. Entitlements or privileges that are assigned to a person or group of persons.

CAC PIN reset (CPR). A portable, single-purpose system capable of providing timely PIN reset capability to the field without requiring a Common Access Card (CAC) holder to return to a CAC issuance facility (i.e. Real-Time Automated Personnel Identification System (RAPIDS), workstation).

Certified document. Must be a certified true original and should convey the appropriate seal or markings of the issuer, or have a means to validate the authenticity of the document by a reference or source number, or be a notarized legal document or other document approved by a Judge Advocate, or have the appropriate certificate of authentication by a U.S. Consular Officer in the foreign country of issuance which attests to the authenticity of the signature and seal.

Certified English translation. See requirements for certified document.

CHC. Medical care provided through the TRICARE program including networks of CHC professionals, institutions, pharmacies, and suppliers to provide access to high-quality health care services.

Child. A natural child, stepchild, or adopted child of the sponsor who is younger than 21 years of age. If 21 or older, the child may remain entitled if he or she is:

(1) 21 or 22 years old and enrolled in a full-time course of education.

(2) 21 or older but incapable of self-support because of a mental or physical incapacity that existed before the 21st birthday.

(3) 21 or 22 years old and was enrolled full-time in an accredited institution of higher learning but became incapable of self-support because of a mental or physical condition while a full-time student.

Civilian employee. DoD civilian employees, as defined in 5 U.S.C. 2105 are individuals appointed to positions by designated officials. Appointments to appropriated fund positions are either permanent or time-limited and the employees are on full-time, part-time, or intermittent work schedules. In some instances, the appointments are seasonal with either a full-time, part-time, or intermittent work schedule. Positions are categorized further as Senior Executive Service (SES), Competitive Service, and Excepted Service positions. In addition, DoD employs individuals paid from NAFs, as well as foreign national citizens outside the United States, its territories, and its possessions, in DoD activities overseas. The terms and conditions of host-nation citizen employment are governed by controlling treaties, agreements, and memoranda of understanding with the foreign nations.

Civilian noncombatant personnel. Personnel who have been authorized to accompany military forces of the United States in regions of conflict, combat, and contingency operations and who are liable to capture and detention by the enemy as POWs.

Commissary. A benefit granted to eligible personnel in accordance with this part and DoD Instruction 1330.17 (available at http://www.dtic.mil/whs/directives/corres/pdf/133017p.pdf).

Competitive service positions. See 5 U.S.C. 2102.

Contingency operation. Defined in Joint Publication 1-02 (available at http://www.dtic.mil/doctrine/new_pubs/jp1_02.pdf).

Contractor employee. An employee of a firm, or individual under contract or subcontract to the DoD, designated as providing services or support to the Department.

Contractors authorized to accompany the force. Defined in Joint Publication 1-02.

Cross-servicing. Agreement amongst all uniformed services to assist members regardless of the `parent service' of that member or their dependents for all matter ID card or benefits related when appropriate.

Defense Enrollment Eligibility Reporting System (DEERS). The definitive centralized person data repository of identity and enrollment and eligibility verification data and associated contact information on members of the DoD Components, members of the Uniformed Services, and other personnel as designated by the DoD, and their eligible dependents and associated contact information.

Dependent. An individual whose relationship to the sponsor leads to entitlement to benefits and privileges.

Direct Care (DC). Medical care that TRICARE provides through the health care resources of the uniformed services through their clinics and MTFs. This does not include any medical care provided through the TRICARE CHC network.

Dual eligible. A person who is entitled to Medicare Part A and enrolled in Medicare Part B and is also entitled to TRICARE medical benefits, in accordance with section 706 of Public Law 106-398 and Public Law 102-190, “National Defense Authorization Act for Fiscal Years 1992 and 1993” (available at http://thomas.loc.gov/cgi-bin/query/C?c102:./temp/~c102UvpYbH).

Dual status. A person who is entitled to privileges from two sources (e.g., a retired member, who is also the dependent of an active duty member; a retired-with-pay member who is employed overseas as a civilian by the U.S. Government and is qualified for logistical support because of that civilian employment; a member of a Reserve Component who is an eligible dependent of an active duty military sponsor; or a child, who is the natural child of one sponsor and the stepchild and member of a household of another sponsor).

Eligibility documentation. Properly certified birth certificate or certificate of live birth authenticated by attending physician or other responsible person from a U.S. hospital or a MTF showing the name of at least one parent; properly certified marriage certification; properly certified final decree of divorce, dissolution, or annulment of marriage and statements attesting to nonremarriage and status of employer-sponsored healthcare; court order for adoption or guardianship; statement of incapacity from a physician or personnel or medical headquarters of sponsor's parent uniformed service; letter from school registrar; retirement orders (providing entitlement to retired pay is established) or DD Form 214 “Certificate of Release or Discharge from Active Duty;” DD Form 1300, “Report of Casualty;” certification from the Department of Veterans' Affairs of 100 percent disabled status; orders awarding Medal of Honor (MOH); formal determination of eligibility for Medicare Part A benefits from the Social Security Administration (SSA); civilian personnel records; and invitational travel orders.

Entitlements. Rights or authorities that are provided based on legislative statute.

Entry level separation. As defined in DoD Instruction 1332.14, “Enlisted Administrative Separations” (available at http://www.dtic.mil/whs/directives/corres/pdf/133214p.pdf), an enlisted service member is considered in an entry-level status during the first 180 days of continuous active military service, or the first 180 days of continuous active service after a service break of more than 92 days of active service. A Service member of a Reserve Component who is not on active duty or who is serving under a call or order to active duty for 180 days or less begins entry-level status upon enlistment in a Reserve Component. Entry-level status for such a Service member of a Reserve Component terminates as follows:

(1) 180 days after beginning training if the Service member is ordered to active duty for training for one continuous period of 180 days or more; or

(2) 90 days after the beginning of the second period of active duty training if the Service member is ordered to active duty for training under a program that splits the training into two or more separate periods of active duty. For the purposes of characterization of service or description of separation, the Service member's status is determined by the date of notification as to the initiation of separation proceedings.

Excepted service positions. Defined in 5 U.S.C. 2103.

Exchange. A benefit that is extended to eligible individuals in accordance with DoD Instruction 1330.21.

Family member. An individual who receives benefits based on his or her association to a sponsor. A family member is often a dependent.

Federally controlled facility. Defined in Office of Management and Budget (OMB) Memorandum M-05-24, “Implementation of Homeland Security Presidential Directive (HSPD) 12—Policy for a Common Identification Standard for Federal Employees and Contractors” (available at http://www.whitehouse.gov/sites/default/files/omb/memoranda/fy2005/m05-24.pdf).

Foreign affiliate. An individual who is a foreign national, either foreign civilian; foreign contractor; or foreign uniformed services personnel who through assignment, temporary duty, school, training, policy board, or other defined agreement is affiliated with the DoD. They are identified to the DoD for benefits and DoD ID card purposes.

Foreign national civilians and contractors. A category of personnel that are CAC-eligible if sponsored by their government as part of an official visit or assigned to work on a DoD facility and/or require access to DoD networks both on site or remotely (remote access must be on an exception only basis for this category).

Former member. An individual who is eligible to receive retired pay, at age 60, for non-regular service pursuant to 10 U.S.C. chapter 1223 but who has been discharged and who maintains no military affiliation. These former members, at age 60, and their eligible dependents are entitled to medical care, commissary, exchange, and MWR privileges. Under age 60, they and their eligible dependents are entitled to commissary, exchange, and MWR privileges only.

Former spouse. An individual who was married to a uniformed services member for at least 20 years, and the member had at least 20 years of service creditable toward retirement, and the marriage overlapped as follows:

(1) 20 years marriage, 20 years creditable service for retirement, and 20 years overlap between the marriage and the service (referred to as 20/20/20). The benefits eligibility begins on the date of divorce;

(2) 20 years marriage, 20 years creditable service for retirement, and 15 years overlap between the marriage and the service (referred to as 20/20/15). The benefits eligibility begins on the date of divorce; or

(3) A spouse whose marriage was terminated from a uniformed service member who has their eligibility to receive retired pay terminated as a result of misconduct based on Service-documented abuse of the spouse and has 10 years of marriage, 20 years of creditable service for retirement, 10 years of overlap between the marriage and the service (referred to as 10/20/10). The benefits eligibility begins on the date of divorce.

Foster child. A child without parental support and protection, placed with a person or family, usually by local welfare services or by court order. The foster parent(s) do not have custody, nor is there an adoption, but they are expected to treat the foster child as they would their own in regard to food, housing, clothing, and education. This is a non-medically entitled dependent.

Full-time work schedule. Full-time employment with a basic 40-hour work week.

ID card sponsor. The person affiliated to a DoD or other Federal agency who takes responsibility for verifying and authorizing the applicant's need for an ID card.

Inactive National Guard (ING). Part of the Army National Guard. These individuals are Reservists who are attached to a specific National Guard unit, but who do not participate in training activities. On mobilization, they shall mobilize with their assigned units. These members muster with their units once a year. Issuance of DD Form 1173-1 “United States Uniformed Services Identification and Privilege Card (Guard and Reserve Family Member)” to ING dependents is mandatory.

Incapacitated person. An individual who is impaired by physical disability, mental illness, mental deficiency, or other causes that prevent sufficient understanding or capacity to competently manage his or her own affairs.

Institution of higher learning. A college, university, or similar institution, including a technical or business school, offering post secondary-level academic instruction that leads to an associate or higher degree, if the school is empowered by the appropriate State education authority under State law to grant an associate or higher degree. When there is no State law to authorize the granting of a degree, the school may be recognized as an institution of higher learning if it is accredited for degree programs by a recognized accrediting agency. The term also includes a hospital offering educational programs at the post secondary level regardless of whether the hospital grants a post secondary degree. The term also includes an educational institution that is not located in a State that offers a course leading to a standard college degree or equivalent and is recognized as such by the Secretary of Education (or comparable official) of the country or other jurisdiction in which the institution is located.

Individual Ready Reserve (IRR). Trained individuals who have previously served in the active component or Selected Reserve (SelRes) and have time remaining on their military service obligation. Includes volunteers who do not have time remaining on the military service obligation, but are under contractual agreement to be a member of the IRR. These individuals are mobilization assets and may be called to active duty pursuant to the provisions of 10 U.S.C. chapter 1209. Issuance of DD Form 1173-1 to IRR dependents is mandatory.

Intergovernmental Personnel Act (IPA) employees. The IPA mobility program provides temporary assignment of personnel between the Federal Government and State and local governments, colleges and universities, Indian tribal governments, federally funded research and development centers, and other eligible organizations.

Intermittent work schedule. Employment without a regularly scheduled tour of duty.

Medicare. Health insurance for people age 65 or older, under 65 with certain disabilities, and any age with end-stage renal disease. The different parts of Medicare help cover specific services if certain conditions are met.

(1) Medicare part A. Covers hospice care, home health care, skilled nursing facilities, and inpatient hospital stays.

(2) Medicare part B. Covers doctors' services, outpatient hospital care, and other medical services that Part A does not cover, such as physical and occupational therapy. Other examples include X-rays, medical equipment, or limited ambulance service.

Member. An individual who is affiliated with a Service, either active duty, Reserve, active duty retired, or Retired Reserve. Retired members are not former members. Also referred to as the sponsor.

MWR. A benefit that is extended to eligible individuals in accordance with DoD Instruction 1015.10, “Military Morale, Welfare, and Recreation (MWR) Programs” (available at http://www.dtic.mil/whs/directives/corres/pdf/101510p.pdf).

National Agency Check with Inquiries (NACI). Is the minimum investigation conducted by the Office of Personnel Management (OPM) for federal employment in nonsensitive positions and for individuals requiring eligibility for logical and physical access. The NACI consists of a records check (of designated agencies of the Federal Government that maintain record systems containing information relevant to making a personnel security determination) plus Written Inquiries to law enforcement agencies, former employers and supervisors, references and schools covering the last 5 years.

Nonappropriated fund (NAF) employees. NAF employees are Federal employees within the Department who are paid from NAFs. 5 U.S.C. 2105 explains the status of NAF employees as Federal employees.

Non-regular service retirement. A person who, as a member of the Ready Reserve, serves on active duty or performs active service, after the date of the enactment of sections 647 and 1106 of Public Law 110-181 and may receive retired pay in accordance with 10 U.S.C. 12731. Under these provisions the eligibility age for applying for retired pay shall be reduced below 60 years of age by 3 months for each aggregate of 90 days on which the member performs in any fiscal year after such date, providing the applicant is at least 50 years of age. However, the member must be age 60 to qualify for CHC and CD.

Part-time work schedule. Part-time employment of 16 to 32 hours a week under a schedule consisting of an equal or varied number of hours per day.

Permanent employee. Career or career-conditional appointment in the Competitive or SES or an appointment in the Excepted Service that carries no restrictions or conditions.

Placement agency (recognized by the Secretary of Defense). An authorized placement agency in the United States or U.S. territories must be licensed for adoption by the State or territory in which the adoption procedures will be completed. In all other locations, a request for recognition must be approved by the appropriate Assistant Secretary of the Military Department concerned or an appropriate official to whom he or she has delegated approval authority.

Pre-adoptive child. With respect to determinations of dependency made on or after October 5, 1994, an unmarried person who is placed in the home of the member or former member by a placement agency (recognized by the Secretary of Defense) in anticipation of the legal adoption of the person by the member or former member; AND is:

(1) Younger than 21 years of age and

(2) Not an eligible dependent of any other member or a former member; or,

(3) Between the ages of 21 and 23 and enrolled in a full-time course of study at an institution of higher learning approved by the administering Secretary; and is:

(4) Dependent on the member or former member for over one-half of the student's support; or

(5) Dependent on the member or former member for over one-half of the student's support at the time of the member's or former member's death.

(6) Incapable of self support because of a mental or physical incapacity that occurred while the person was considered a dependent of the member or former member; and:

(7) Is dependent on the member or former member for over one-half of the person's support or was at the time of the member's or former member's death.

(8) Resides with the member or former member unless separated by the necessity of military service or to receive institutional care as a result of disability or incapacitation.

Privileges. Rights or authorities that are provided based on position, authority, or status and may be removed by proper authority.

Ready Reserve. Military members of the National Guard and Reserve, organized in units or as individuals, liable for recall to active duty to augment the active components in time of war or national emergency. The Ready Reserve consists of three Reserve Component subcategories: The SelRes, the IRR, and the ING.

Remarried parent. A dependent parent of a deceased military member who loses dependency-based eligibility for benefits on remarriage.

Retired Reserve entitled to pay at age 60 (Gray Area Retirees). Reserve members who have completed 20 qualifying years for retirement and are entitled to receive pay at age 60, but have not yet reached age 60. Reserve Retirees and their dependents receive commissary, MWR, and exchange benefits until the sponsor receives retired pay. Individuals may be recalled to active duty in accordance with 10 U.S.C.

Seasonal employment. Annually recurring periods of work of less than 12 months each year. Seasonal employees generally are permanent employees who are placed in non-duty or non-pay status and recalled to duty in accordance with pre-established conditions of employment. Seasonal employees may have full-time, part-time, or intermittent work schedules.

Selected Reserve (SelRes). Those National Guard and Reserve units and individuals within the Ready Reserve designated by their respective Services and approved by the Chairman of the Joint Chiefs of Staff, as so essential to initial wartime missions that they have priority over all other Reserves. They must be prepared to mobilize within 24 hours. The issuance of DD Form 1173-1 to their dependents and participation in the Guard and Reserve DEERS Enrollment Program are mandatory.

Service Project Officer (SPO). The uniformed services, National Guard and Reserve Component, and agency-level office that coordinates with OUSD(P&R) on policy and functional matters related to DEERS, RAPIDS, and Trusted Associate Sponsorship System (TASS), and manages ID card operations within the respective organization.

SES positions. Appropriated fund positions in an agency classified above General Service-15 pursuant to 5 U.S.C. 5108 or in level 4 or 5 of the Executive Schedule, or an equivalent position, which is not required to be filled by an appointment by the President by and with the advice and consent of the Senate.

Site security manager (SSM). The SPO-appointed individual that manages the daily operations at a RAPIDS site to include managing users, cardstock, and consumables.

Sponsor. The prime beneficiary who derives his or her eligibility based on individual status rather than dependence of another person. This beneficiary receives benefits based on his or her direct affiliation to the DoD.

Spouse. A person legally married under the law of the place in which the marriage was celebrated to a current, former, or retired uniformed service member, eligible civilian employee, or other eligible individual, in accordance with Part 1 and Part 2, regardless of gender or state of residence.

Standby Reserve. Personnel who maintain their military affiliation without being in the Ready Reserve, who have been designated key civilian employees, or who have a temporary hardship or disability. These individuals are not required to perform training and are not part of units. These individuals are trained and could be mobilized, if necessary, to fill manpower needs in specific skills.

Temporary assignment. An appointment for a specified period not to exceed 1 year. A temporary assignment can be extended up to a maximum of 1 additional year.

Transitional Health Care (THC). A healthcare system, formerly known as Transition Assistance Management Program (TAMP), instituted in section 502 of Public Law 101-510. It includes pre-separation and separation services, the Continued Health Care Benefit Program, a voluntary insurance program for sponsors and eligible dependents separating from active service; pre-separation counseling service for separating uniformed services members; and various other transitional initiatives. Uniformed service members separated as uncharacterized entry-level separations do not qualify for THC. Section 706 of Public Law 108-375 replaced the TAMP with the THC program. Section 651 of Public Law 110-181 included the 2-year commissary and exchange privilege for involuntarily separated uniformed service members. The DoD added MWR to the benefit set and extended the same benefits to the eligible dependents. To qualify for benefits under this program, individuals must be separated with service characterized as honorable or general under honorable conditions meeting the separation reasons identified in 10 U.S.C. 1145. The THC program is a permanent program and made the medical eligibility 180 days for all eligible uniformed service members and eligible dependents. Enlisted uniformed service members discharged for reasons of misconduct, discharge in lieu of court-martial, or other reasons for which service normally is characterized as under other than honorable conditions are not eligible for transition benefits. Officers discharged as a result of resignation in lieu of trial by court-martial, or misconduct or moral or professional dereliction if the discharge could be characterized as under other than honorable conditions are not eligible for transition benefits. Pursuant to 10 U.S.C. 1145, the qualifying periods of active duty include:

(1) A member who is involuntarily separated from active duty.

(2) A member of a Reserve Component who is separated from active duty to which called or ordered in support of a contingency operation if the active duty is for a period of more than 30 days.

(3) A member who is separated from active duty for which the member is involuntarily retained in accordance with 10 U.S.C. 12305 in support of a contingency operation.

(4) A member who is separated from active duty served pursuant to a voluntary agreement of the member to remain on active duty for a period of less than 1 year in support of a contingency operation.

(5) A member who receives a sole survivorship discharge (as defined in 10 U.S.C. 1174); or

(6) A member who is separated from active duty who agrees to become a member of the SelRes. Section 734 of Public Law 110-417, which took effect on October 14, 2008 extended THC benefits to a uniformed service member who is separated from active duty who agrees to become a member of the SelRes of the Ready Reserve of a Reserve Component.

Trusted Agent (TA). An individual appointed by a TASM that serves as a sponsor for eligible populations within TASS, utilizes TASS to register data for the DD Form 1172-2 (available at http://www.dtic.mil/whs/directives/infomgt/forms/eforms/dd1172-2.pdf), re-verifies CAC holder affiliation, and revokes CACs.

Trusted Agent Security Manager (TASM). An individual appointed by a SPO to oversee the activity for a specific TASS site and associated TAs. These individuals also serve in the TA role.

Trusted Associate Sponsorship System (TASS) (formerly known as Contractor Verification System (CVS)). A Web application used to verify that CAC applicants have the appropriate government sponsorship for the purpose of issuing CACs. The TASS web interface automates the DD Form 1172-2 for tracking the request process and updating DEERS with applicant information required for CAC issuance. The system also provides a mechanism for periodic re-verification of contractor eligibility to ensure that information is current and contractor CACs do not remain active when not appropriate. This capability will be expanded to support registration and background investigation confirmation for additional CAC eligible populations.

Unmarried. A widow or widower who remarried and whose marriage terminated by death or divorce, or a former spouse whose subsequent remarriage ended by death or divorce.

Unremarried. A widow or widower who has never remarried, or a former spouse whose only remarriage was to the same military sponsor (periods of marriage in this case may be combined to document eligibility for former spouse benefits).

Verifying Official (VO). An individual who is responsible for validating eligibility of bona fide beneficiaries to receive benefits and entitlements.

Ward. An unmarried person whose care and physical custody has been entrusted to the sponsor by a legal decree or other instrument that a court of law or placement agency (recognized by the Secretary of Defense) issues. Includes foster children and children for whom a managing conservator has been designated. Wards must be dependent on the sponsor for over half of their support. An identification card issued to a ward may reflect entitlement to medical care benefits with respect to determinations of dependency made on or after July 1, 1994, for children who are placed in the legal custody of the member or former member as a result of an order of a court of competent jurisdiction in the United States (or a territory or possession of the United States) for a period of at least 12 consecutive months; and either:

(1) Has not attained the age of 21;

(2) Has not attained the age of 23 and is enrolled in a full-time course of study at an institution of higher learning approved by the administering Secretary;

(3) Is incapable of self support because of a mental or physical incapacity that occurred while the person was considered a dependent of the member or former member; or

(4) Is dependent on the member or former member for over one-half of the person's support; resides with the member or former member unless separated by the necessity of military service or to receive institutional care as a result of disability or incapacitation or under such other circumstances as the administering Secretary may by regulation prescribe; and is not a dependent of a member or a former member under any other subparagraph.

Widow. The spouse of a deceased male in the uniformed services.

Widower. The spouse of a deceased female in the uniformed services.

§ 161.4 Policy.

(a) It is DoD policy that a distinct DoD ID card shall be issued to uniformed service members, their dependents, and other eligible individuals and will be used as proof of identity and DoD affiliation.

(b) DoD ID cards shall serve as the Geneva Convention Card for eligible personnel in accordance with DoD Instruction 1000.1, “Identity Cards Required by the Geneva Convention” (available at http://www.dtic.mil/whs/directives/corres/pdf/100001p.pdf).

(c) DoD ID cards shall be issued through a secure and authoritative process in accordance with DoD Directive 1000.25, “DoD Personnel Identity Protection (PIP) Program” (available at http://www.dtic.mil/whs/directives/corres/pdf/100025p.pdf).

(d) The CAC, a form of DoD ID card, shall serve as the Federal Personal Identity Verification (PIV) card for DoD implementation of Homeland Security Presidential Directive 12, “Policy for a Common Identification Standard for Federal Employees and Contractors” (available at http://www.dhs.gov/xabout/laws/gc_1217616624097.shtm).

(e) ID cards, in a form distinct from the CAC, shall be issued and will serve as proof of identity and DoD affiliation for eligible communities that do not require the Federal PIV card that complies with Homeland Security Presidential Directive 12 and FIPS Publication 201-1, “Personal Identity Verification (PIV) of Federal Employees and Contractors” (available at http://csrc.nist.gov/publications/fips/fips201-1/FIPS-201-1-chng1.pdf).

§ 161.5 Responsibilities.

(a) The USD(P&R) shall:

(1) Oversee implementation of the procedures within this part.

(2) Establish overall policy and procedures for the issuance of ID cards to members of the uniformed services, their dependents, and other eligible individuals.

(3) Establish minimum acceptable criteria for establishment and confirmation of personal identity, policy for the issuance of the DoD enterprise personnel identity credentials, and approve of additional systems under the PIP Program in accordance with DoD Directive 1000.25.

(4) Act as the Principal Staff Assistant (PSA) for the DEERS, the RAPIDS, and the Personnel Identity Protection (PIP) Program in accordance with DoD Directive 1000.25.

(5) Maintain the DEERS data system in support of the Department of Defense in accordance with applicable law and directives.

(6) Develop and field the required RAPIDS infrastructure and all elements of field support to issue ID cards including but not limited to software distribution, hardware procurement and installation, on-site and depot-level hardware maintenance, on-site and Web-based user training and central telephone center support, and telecommunications engineering and network control center assistance.

(7) In coordination with the Under Secretary of Defense for Intelligence (USD(I)), the Under Secretary of Defense for Acquisition, Technology, and Logistics (USD(AT&L)), and the DoD Chief Information Officer (DoD CIO) establish policy and oversight for CAC life-cycle compliance with FIPS Publication 201-1.

(8) Establish procedures that will uniquely identify personnel with specific associations with the Department of Defense and maintain the integrity of the unique personnel identifier in coordination with the DoD Components in accordance with DoD Directive 8320.03, “Unique Identification (UID) Standards for a Net-Centric Department of Defense” (available at http://www.dtic.mil/whs/directives/corres/pdf/832003p.pdf).

(b) The Assistant Secretary of Defense for Reserve Affairs (ASD(RA)), under the authority, direction, and control of the USD(P&R), shall develop policies and establish guidance for the National Guard and Reserve Component communities that affect benefits, entitlements, identity, and ID cards.

(c) The Deputy Assistant Secretary of Defense for Military Community and Family Policy (DASD(MC&FP)), under the authority, direction, and control of the USD(P&R), shall develop policy and procedures to determine eligibility for access to DoD programs for MWR; commissaries; exchanges; lodging; children and youth; DoD schools; family support; voluntary and post-secondary education; and other military community and family benefits that affect identity and ID cards.

(d) The Director, Defense Human Resources Activity (DHRA), under the authority, direction, and control of the USD(P&R), shall, in accordance with DoD Directive 1000.25:

(1) Develop policies and procedures for the oversight, funding, personnel staffing, direction, and functional management of the PIP Program.

(2) Coordinate with the Principal Under Secretary of Defense for Health Affairs (ASD(HA)), and the ASD(RA) on changes to enrollment and eligibility policy and procedures pertaining to personnel, medical, and dental issues that affect the PIP Program.

(3) Develop policies and procedures to support the functional requirements of the PIP Program, DEERS, and the DEERS client applications.

(4) Secure funding in support of new requirements to support the PIP Program or the enrollment and eligibility functions of DEERS and RAPIDS.

(5) Approve the addition or elimination of population categories eligible for ID cards in accordance with applicable law.

(6) Establish the type and form of ID card issued to eligible populations categories and administer pilot programs to determine the suitable form of ID card for newly identified populations.

(e) The USD(AT&L) shall:

(1) Update the Defense Federal Acquisition Regulation Supplement (DFARS), current edition (available at http://www.acq.osd.mil/dpap/dars/dfarspgi/current/index.html) to support requirements for CAC and Homeland Security Presidential Directive 12 for contracts.

(2) Ensure that the requirement for contractors to return CACs at the completion or termination of each individual's support on a specific contract is included in all applicable contracts.

(f) The USD(I) shall:

(1) Establish policy for the use of DoD issued ID cards for physical access purposes in accordance with DoD 5200.08-R, “Physical Security Program” (available at http://www.dtic.mil/whs/directives/corres/pdf/520008r.pdf).

(2) Establish policy for military, civilian, and contractor employee background investigation, submission, and adjudication across the Department of Defense, in compliance with Homeland Security Presidential Directive 12 and Office of Personnel Management Memorandum, “Final Credentialing Standards for Issuing Personal Identity Verification (PIV) Cards Under HSPD-12” (available at http://www.opm.gov/investigate/resources/final_credentialing_standards.pdf).

(g) The DoD CIO shall:

(1) In coordination with the USD(I), USD(P&R), and USD(AT&L), establish policy and oversight for CAC life-cycle compliance with Federal Information Processing Standards Publication 201-1.

(2) Provide guidance regarding the use of DoD and non-DoD identification credentials on DoD information systems, including the Federal PIV cards, for authenticating to DoD network accounts and DoD private Web sites.

(3) Ensure that the DoD Public Key Infrastructure (PKI) conforms to all applicable FIPS to the greatest extent possible.

(h) The Heads of the DoD Components, the Director, USPHS, and the NOAA Administrator, shall:

(1) Develop and implement Component-level procedures for DoD directed policies and statutory requirements to support benefits eligibility through DEERS.

(2) Develop and implement Component-level ID card life-cycle procedures to comply with the provisions of this Instruction.

(3) Ensure all DoD employees, uniformed service members, and all other eligible CAC applicants, including contractor employees and other affiliate CAC applicants, have met the background investigation requirements referenced in paragraph (a)(3) of § 161.6 of this part prior to approving CAC sponsorship and registration. Background investigation status must be verified and documented by the sponsor or sponsoring organization in conjunction with application for CAC issuance.

(4) Establish processes and procedures as part of the normal check-in and check-out process for collection of the CAC for all categories of DoD personnel and contractor employees when there is a separation, retirement, termination, contract termination or expiration, or CAC revocation. Since CACs contain personally identifiable information (PII), they shall be treated and controlled in accordance with 32 CFR part 310, and DoD 5200.1-M, Volume 4, “DoD Information Security Program: Controlled Unclassified Information (CUI)” (available at http://www.dtic.mil/whs/directives/corres/pdf/520001_vol4.pdf). CACs shall be returned to any RAPIDS issuance location for proper disposal in a timely manner once surrendered by the CAC holder.

(5) Provide appropriate space and staffing for all DoD ID card issuing operations, as well as reliable telecommunications to and from the Defense Information Systems Agency managed Non-Classified Internet Protocol Router Network.

(6) Provide funding for CAC cardstock, printer consumables, and electromagnetically opaque sleeves to Defense Manpower Data Center (DMDC).

(7) Protect cardstock and consumables in accordance with the guidelines and standards issued and maintained by DMDC.

(8) In accordance with Federal Information Processing Standards Publication 201-1, provide electromagnetic opaque sleeves or other comparable technologies to protect against any unauthorized contactless access to the cardholder unique identification number stored on the CAC.

(9) Manage the distribution and locations of CAC personal identification number (PIN) reset workstations.

(10) To the maximum extent possible, and in accordance with DoD Components' designated accrediting authority guidelines, ensure networked workstations are properly configured and available for CAC holders to use the User Maintenance Portal-Post Issuance Portal (UMP-PIP) service.

(11) Oversee supervision of TASS TAs and TA security managers and ensure the number of contractors overseen by any TA is manageable.

(i) The Secretaries of the Military Departments; Director, USPHS; and Administrator, NOAA, shall:

(1) Appoint project officers from a level that represents the Service position of the active, National Guard, and Reserve Components for personnel policy to serve on the Joint Uniformed Services Personnel Advisory Committee.

(2) Comply with the provisions of this part and other related policy and procedural guidance from the Department of Defense.

§ 161.6 Procedures.

(a) The DoD ID card life cycle shall be supported by an infrastructure that is predicated on a systems-based model for credentialing as described in FIPS Publication 201-1. Paragraphs (a)(1) through (7) of this section represent the baseline requirements for the life cycle of all DoD ID cards. The specific procedures and sequence of order for these items will vary based on the applicant's employment status or affiliation with the DoD and the type of ID card issued. Detailed procedures of the ID card life cycle for each category of applicant and type of ID card shall be provided by the responsible agency.

(1) Sponsorship and eligibility. Sponsorship shall incorporate the processes for confirming eligibility for an ID card. The sponsor is the person affiliated with the DoD or other Federal agency who takes responsibility for verifying and authorizing the applicant's need for an ID card. Applicants for a CAC must be sponsored by a DoD government official or employee.

(2) Registration and enrollment. Sponsorship and enrollment information on the ID card applicant shall be registered in DEERS prior to card issuance.

(3) Background investigation. A background investigation is required for those individuals eligible for a CAC. A background investigation is not currently required for those eligible for other forms of DoD ID cards. Sponsored CAC applicants shall not be issued a CAC without a favorably adjudicated background investigation stipulated in FIPS Publication 201-1. Applicants that have been denied a CAC based on an unfavorable adjudication of the background investigation may submit an appeal in accordance with FIPS Publication 201-1 and Office of Personnel Management Memorandum, “Final Credentialing Standards for Issuing Personal Identity Verification Cards under HSPD-12.”

(4) Identity and eligibility verification. Identity and eligibility verification shall be completed at a RAPIDS workstation. Verifying officials (VOs) shall inspect identity and eligibility documentation and RAPIDS shall authenticate individuals to ensure that ID cards are provided only to those sponsored and with a current affiliation with the DoD. RAPIDS shall also capture uniquely identifying characteristics that bind an individual to the information maintained on that individual in DEERS and to the ID card issued by RAPIDS. These characteristics may include, but are not limited to, digital photographs and fingerprints.

(5) Issuance. ID cards shall be issued at the RAPIDS workstation after all sponsorship, enrollment and registration, background investigation (CAC only), and identity and eligibility verification requirements have been satisfied.

(6) Use and maintenance. ID cards shall be used as proof of identity and DoD affiliation to facilitate access to DoD facilities and systems. Additionally, ID cards shall represent authorization for entitled benefits and privileges in accordance with DoD policies.

(7) Retrieval and revocation. ID cards shall be retrieved by the sponsor or sponsoring organization when the ID card has expired, when it is damaged or compromised, or when the card holder is no longer affiliated with the DoD or no longer meets the eligibility requirements for the card. The active status of an ID card shall be revoked within the DEERS and RAPIDS infrastructure and the PKI certificates on the CAC shall be revoked.

(b) The guidelines and restrictions of this paragraph apply to all forms of DoD ID cards.

(1) Any person willfully altering, damaging, lending, counterfeiting, or using these cards in any unauthorized manner is subject to fine or imprisonment or both, as prescribed in 18 U.S.C. 499, 506, 509, 701, and 1001. Section 701 of 18 U.S.C. prohibits photographing or otherwise reproducing or possessing DoD ID cards in an unauthorized manner, under penalty of fine or imprisonment or both. Unauthorized or fraudulent use of ID cards would exist if bearers used the card to obtain benefits and privileges to which they are not entitled. Examples of authorized photocopying include photocopying of DoD ID cards to facilitate medical care processing, check cashing, voting, tax matters, compliance with 50 U.S.C. appendix 501 (also known as “The Service member's Civil Relief Act”), or administering other military-related benefits to eligible beneficiaries. When possible, the ID card will be electronically authenticated in lieu of photographing the card.

(2) International agreements (including status-of-forces agreements) and host-nation law may limit and/or define the types of support available to personnel in overseas areas. Although an ID card may be used to verify eligibility in the United States for access to, for example, commissary or exchange facilities, the use of such facilities overseas may be limited to persons who are stationed or performing temporary duty in a foreign country under official orders in support of a mutual defense mission with the host nation. ID cards shall be issued only for the purposes identified in and in accordance with this Instruction, and the Heads of the DoD Components shall use other means, such as ration cards, to implement provisions in international agreements or to prevent violations of applicable host-nation law. ID cards shall not be issued for the sole purpose of implementing provisions of international agreements or restrictions based on applicable host-nation law.

(3) All ID cards are property of the U.S. Government and shall be returned upon separation, resignation, firing, termination of contract or affiliation with the DoD, or upon any other event in which the individual no longer requires the use of such ID card.

(4) To prevent any unauthorized use, ID cards that are expired, invalidated, stolen, lost, or otherwise suspected of potential or actual unauthorized use shall be revoked in DEERS along with the PKI certificates on the CACs immediately revoked.

(5) There are instances where graphical representations of ID cards are necessary to facilitate the DoD mission. When used and distributed, the replicas must not be the same size as the ID card, must have the word “SAMPLE” written on them, and shall not contain an individual's PII. All SAMPLE ID cards must be maintained in a controlled environment and shall not serve as a valid ID.

(6) Individuals within the DoD who have multiple personnel category codes (e.g., an individual who is both a reservist and a contractor) shall be issued a separate ID card in each personnel category for which they are eligible. Multiple current ID cards of the same form (e.g., CAC) shall not be issued or exist for an individual under a single personnel category code.

(7) ID cards shall not be amended, modified, or overprinted by any means. No stickers or other adhesive materials are to be placed on either side of an ID card. Holes shall not be punched into ID cards, except when a CAC has been requested by the next of kin for an individual who has perished in the line of duty. A CAC provided to next of kin shall have the status of the card revoked in DEERS, have the certificates revoked, and have a hole punched through the integrated circuit chip before it is released to the next of kin.

(8) An ID card shall be in the personal custody of the individual to whom it was issued at all times. If required by military authority, it shall be surrendered for ID or investigation.

(c) CAC migration to Federal PIV requirements. The DoD is migrating the CAC to meet the Federal requirements for credentialing contained within Homeland Security Presidential Directive 12 and FIPS Publication 201-1. Migration will take place over multiple years as the card issuance hardware, software, and supporting systems and processes are upgraded. Successful migration will require coordination and collaboration within and among all CAC communities (e.g., personnel security, operational security, industrial security, information security, physical security, and information technology). The organizations listed in this section will support the migration in conjunction with the responsibilities listed in § 161.5:

(1) The Director, DMDC shall:

(i) Procure and distribute CAC consumables, including card stock, electromagnetically opaque sleeves, and printer supplies, commensurate with funding received from the DoD Components.

(ii) In coordination with the Office of the Under Secretary of Defense for Policy, establish an electronic process for securing CAC eligibility information on foreign government military, employee, or contract support personnel whose visit status and background investigation has been confirmed, documented, and processed in accordance with DoD Directive 5230.20, “Visits and Assignments of Foreign Nationals” (available at http://www.dtic.mil/whs/directives/corres/pdf/523020p.pdf).

(iii) In accordance with FIPS Publication 201-1, electronically capture and store source documents in the identity-proofing process at the accession points for eligible ID card holders.

(iv) Implement modifications to the CAC applets and interfaces, add contactless capability to the CAC platform and implement modifications to the CAC topology to support compliance with FIPS Publication 201-1.

(v) Establish and implement procedures for capturing biometrics required to support CAC issuance, which includes fingerprints and facial images specified in FIPS Publication 201-1 and National Institute of Standards and Technology Special Publication 800-76-1, “Biometric Data Specification for Personal Identity Verification” (available at http://csrc.nist.gov/publications/nistpubs/800-76-1/SP800-76-1_012407.pdf).

(vi) In coordination with the Executive Manager for DoD Biometrics and the Office of the USD(AT&L), implement the capability to obtain two segmented images (primary and secondary) fingerprint minutiae from the full 10-print fingerprints captured as part of the initial background investigation process for CAC issuance.

(vii) Maintain a capability for a CAC holder to reset or unlock PINs from a system outside of the CAC issuance infrastructure.

(2) The Executive Manager for DoD Biometrics, as appointed by the Secretary of the Army as DoD Executive Agent for DoD Biometrics in accordance with DoD Directive 8521.01E, “Department of Defense Biometrics” (available at http://www.dtic.mil/whs/directives/corres/pdf/852101p.pdf), shall:

(i) Establish biometric standards for collection, storage, and subsequent transmittal of biometric information in accordance with DoD Directive 8521.01E (available at http://www.dtic.mil/whs/directives/corres/pdf/852101p.pdf).

(ii) In coordination with the USD(P&R), the USD(I), and the Heads of the DoD Components, establish capability for biometric collection and enrollment operations to support CAC issuance in accordance with 32 CFR part 310 and National Institute of Standards and Technology Special Publication 800-76-1 (available at http://csrc.nist.gov/publications/nistpubs/800-76-1/SP800-76-1_012407.pdf).

(3) The Identity Protection and Management Senior Coordinating Group shall:

(i) Monitor the CAC and identity management related activities outlined within this Instruction in accordance with DoD Directive 1000.25 (available at http://www.dtic.mil/whs/directives/corres/pdf/100025p.pdf).

(ii) Maintain a configuration management process for the CAC and its related components to monitor DoD compliance with FIPS Publication 201-1.

Subpart B—DoD Identification (ID) Cards: ID Card Life-Cycle

§ 161.7 ID card life-cycle procedures.

(a) Sponsorship and eligibility. In accordance with this part, sponsorship shall incorporate the processes for confirming eligibility for an ID card. The sponsor is the person affiliated with the DoD or other Federal agency who takes responsibility for verifying and authorizing the applicant's need for an ID card. Applicants for a CAC shall be sponsored by a DoD Government official or employee.

(1) The population categories and specific ID cards for which applicants are eligible are listed in Appendix 1 of this section. The majority of these populations are eligible to be sponsored for an ID card based on either their employment status with the DoD or their authorization to receive DoD benefits and entitlements. Examples of these population categories include, but are not limited to: Uniformed services personnel; DoD civilian employees; military retirees; certain DoD beneficiaries; and the eligible dependents for these categories.

(2) Specific populations, listed in paragraph (c)(2)(ii) of Appendix 1 of this section who are eligible to submit for the “U.S. DoD/Uniformed Service ID Card” may only be sponsored if they meet additional criteria. Examples of these population categories include DoD contractors, non-DoD Federal civilians, State employees, and other non-DoD personnel that have an affiliation with the DoD other than through employment or contract. Eligibility for these approved population categories is based on the DoD Government sponsor's determination of the type and frequency of access required to DoD facilities or networks. For the populations described in this paragraph, the applicant's sponsor must confirm that the applicant meets one of the requirements in paragraphs (a)(2)(i) and (iii) of this section:

(i) Both physical access to a DoD facility and access, via logon, to DoD networks on-site or remotely. Access to the DoD network must require the use of a computer with Government-controlled configuration or use of a DoD-approved remote access procedure in accordance with the Defense Information Systems Agency Security Technical Implementation Guide, “Secure Remote Computing” (available at http://iase.disa.mil/stigs/a-z.html under “Remote. . .”).

(ii) Remote access, via logon, to a DoD network using DoD-approved remote access procedures.

(iii) Physical access to multiple DoD facilities or multiple non-DoD federally controlled facilities on behalf of the DoD (applicable to DoD contractors only) on a recurring basis for a period of 6 months or more.

(A) The frequency of “recurring basis” for access shall be determined by the DoD Component concerned in coordination with installation security policies.

(B) CAC eligibility for applicants requiring physical access to multiple DoD facilities on a recurring basis for less than 6 months are risk-based decisions that shall be made by the DoD Component concerned in coordination with installation security policies. These applicants may instead be eligible for local or regional base passes in accordance with Office of the Under Secretary of Defense for Intelligence (USD(I)) and local installation security policies and procedures.

(b) Registration and enrollment. In accordance with this part, sponsorship and enrollment information about the ID card applicant shall be registered in the DEERS prior to card issuance.

(1) For uniformed services personnel and DoD civilians, all submissions to DEERS must be made electronically via an authorized data source feed (e.g., Civilian Personnel Management Service). Data source feeds for additional population categories shall be approved and incorporated by the Office of the USD(P&R) (OUSD(P&R)) as they become available.

(2) The population categories that are not registered via an authorized data source feed will be registered in DEERS via the RAPIDS using the DD Form 1172-2 or via the TASS (formerly known as CVS, as described in § 161.8 of this subpart.

(c) Background Investigation. In accordance with this subpart, a background investigation is required for those individuals eligible for a CAC. A background investigation is not currently required for those eligible for other forms of DoD ID cards. The use of the CAC, as the DoD Federal personal identity verification (PIV) card, is governed and supported by additional policies when compared to non-CAC ID cards. Sponsored CAC applicants shall not be issued a CAC without the required background investigation stipulated in FIPS Publication 201-1, “Personal Identity Verification (PIV) of Federal Employees and Contractors” (available at http://csrc.nist.gov/publications/fips/fips201-1/FIPS-201-1-chng1.pdf).

(1) A background investigation shall be initiated by the sponsoring organization before a CAC can be issued. The mechanisms required to verify completion of background investigation activities for DoD, military, and civilian CAC populations are managed within the DoD human resources and personnel security communities and are linked to the CAC issuance process. An automated means is not currently in place to confirm the vetting for populations other than DoD military and civilian personnel such as CAC-eligible contractors and non-DoD Federal civilian affiliates. When data is not available within the CAC issuance infrastructure on the background investigation status for an applicant, the sponsor shall be responsible for confirming that the required background investigation procedures comply with the FIPS Publication 201-1 before a CAC is authorized for issuance.

(2) Initial issuance of a CAC requires, at a minimum, the completion of the Federal Bureau of Investigation (FBI) fingerprint check with favorable results and submission of a NACI (or investigation approved in Federal Investigative Standards) to the USD(I) approved investigative service provider. Completed NACI's for CAC issuance shall be adjudicated in accordance with Office of Personnel Management Memorandum, “Final Credentialing Standards for Issuing Personal Identity Verification Cards under HSPD-12” (available at http://www.opm.gov/investigate/resources/final_credentialing_standards.pdf).

(3) Except for uniformed services members, non-U.S. person CAC applicants that do not meet the criteria to complete a NACI (e.g., U.S. residency requirements), must meet one of the criteria in paragraph (c)(3)(i) or (ii) of this section prior to CAC issuance. CACs issued to these non-U.S. persons shall display a blue stripe as described in Appendix 2 of this section. Procedures for the acceptance of this CAC shall be in accordance with DoD policy for physical and logical access. The specific background investigation conducted on the non-U.S. person may vary based on governing international agreements. Non-U.S. persons must:

(i) Possess (as foreign military, employee, or contract support personnel) a visit status and security assurance that has been confirmed, documented, and processed in accordance with international agreements pursuant to DoD Directive 5230.20, “Visits and Assignments of Foreign Nationals” (available at http://www.dtic.mil/whs/directives/corres/pdf/523020p.pdf).

(ii) Meet (as direct or indirect DoD hire personnel overseas) the investigative requirements for DoD employment as recognized through international agreements pursuant to Volume 1231 of DoD Instruction 1400.25, “DoD Civilian Personnel Management System: Employment of Foreign Nationals” (available at http://www.dtic.mil/whs/directives/corres/html/CPM_table2.html). In addition to these investigative requirements, a fingerprint check against the FBI criminal history database, an FBI investigations files (name check search), and a name check against the Terrorist Screening Database shall be required prior to CAC issuance in accordance with Office of Personnel Management Memorandum, “Final Credentialing Standards for Issuing Personal Identity Verification Cards under HSPD-12.”

(d) Identity and eligibility verification. In accordance with this part, identity and eligibility verification shall be completed at a RAPIDS workstation. VOs shall inspect identity and eligibility documentation and RAPIDS shall authenticate individuals to ensure that ID cards are provided only to those sponsored and who have a current affiliation with the DoD. RAPIDS shall also capture uniquely identifying characteristics that bind an individual to the information maintained in DEERS and to the ID card issued by RAPIDS. These characteristics may include, but are not limited to, digital photographs and fingerprints.

(1) Identity documents. Applicants for initial ID card issuance shall submit two identity documents in original form as proof of identity. A VO at a RAPIDS workstation shall inspect and verify the documents presented by the applicant before ID card issuance. The identity documents must come from the list of acceptable documents included in the Form I-9 “Employment Eligibility Verification” (http://www.uscis.gov/files/form/i-9.pdf) in OMB No. 115-0136 or, for non-U.S. persons, other sources as outlined within paragraph (d)(1)(ii). “Certified true” copies of the identity documentation may be accepted so long as they have been issued by the originating source (e.g., a copy of a birth certificate may be acceptable so long as it has been certified as valid by the issuing State). In accordance with applicable law, at least one of the two identity documents shall be a valid (unexpired) State or Federal Government-issued picture ID. The identity documents shall be inspected for authenticity and scanned and stored in the DEERS in accordance with the DMDC, “Real-time Automated Personnel Identification System (RAPIDS) User Guide” upon issuance of an ID card. The requirement for the primary identity document to have a photo cannot be waived for initial ID card issuance, consistent with applicable statutory requirements. Identity documentation requirements for renewal or re-issuance are provided in paragraph (e)(3) of this section. When it has been determined that a CAC applicant has purposely misrepresented or not provided his or her true identity, the case shall be referred by the relevant RAPIDS Service Project office (SPO) to the sponsoring DoD Component organization. The DoD Component organization concerned shall initiate an investigation or provide appeals procedures as appropriate. Exceptions to the identity documentation requirements for initial ID card issuance are provided in paragraphs (d)(1)(i) and (d)(1)(ii) of this section:

(i) Children. Children under the age of 18 applying for a dependent ID card are only required to provide documentation for the initial verification of eligibility or proof of relationship to the sponsor described in paragraph (d)(2) of this section.

(ii) Documentation for non-U.S. persons. At foreign locations, eligible non-U.S. persons may not possess identity documentation from the Form I-9 required for ID card issuance. These individuals shall still provide personal ID as required by the intent of this paragraph (d)(1). Non-U.S. persons within the continental United States (CONUS) shall present a valid (unexpired) foreign passport as the primary form of identity source documentation. DoD organizations based outside the CONUS should work with the local consular affairs office to determine guidelines for the appropriate identity documentation for eligible non-U.S. persons in accordance with agreements with host nations. It is recommended that a foreign passport be used as the primary form of identity source documentation for these individuals. The requirement for the primary identity document to have a photo cannot be waived. Additional documentation used to verify identity must be original or certified true copies. All documentation not in English must have a certified English translation.

(2) Eligibility documents. ID card applicants may be required to provide documentation as initial verification of eligibility for benefits or proof of relationship to the sponsor. The eligibility documents shall be inspected for authenticity by the VO and scanned and stored in DEERS in accordance with the procedures in DMDC, “Real-time Automated Personnel Identification System (RAPIDS) User Guide.” Specifications and the types of documents and how they are utilized to verify eligibility for a member or dependent based on their status (e.g., Retired, Reservist, spouse, former spouse, child) shall be established by the uniformed services subject to the guidelines in this subpart. All documentation used to verify eligibility must be original or certified true copies. All documentation not in English must have a certified English translation. Eligibility documentation is not required when DEERS can verify eligibility via an authoritative source or process.

(3) DEERS verification. The VO shall utilize DEERS to verify affiliation and eligibility for benefits as described in subpart C of this part.

(4) Biometrics. In accordance with DoD Directive 1000.25, ID card applicants shall provide two fingerprint biometric scans and a facial image, to assist with authenticating the applicant's identity and to bind the information maintained on that individual in DEERS and to the ID card issued by RAPIDS. These requirements shall be integrated into the ID card issuance processes in the following manner:

(i) A digitized, full-face passport-type photograph will be captured for the facial image and stored in DEERS and shall have a plain white or off-white background. No flags, posters, or other images shall appear in the photo. All ID cards issued will display a photograph.

(ii) Two fingerprints are captured for storage within DEERS for applicable ID card applicants. The right and left index fingers shall normally be designated as the primary and secondary finger, respectively. However, if those fingers cannot be imaged, the primary and secondary designations shall be taken in the following order of priority: Right thumb, left thumb, right middle finger, left middle finger, right ring finger, left ring finger, right little finger, left little finger.

(iii) If two fingerprints cannot be captured, the facial image will be the alternative for authenticating ID card applicants and ID card holders during the issuance process. Additionally, when verification or capture of biometrics is not possible, authorization will be provided by the RAPIDS SSM's digital signature. This transaction shall be subject to audit by DMDC and the uniformed services.

(e) Issuance. In accordance with this part, ID cards shall be issued at the RAPIDS workstation after all sponsorship, enrollment and registration, background investigation (CAC only), and identity and eligibility verification requirements have been satisfied. Initial issuance of an ID card to an applicant will be contingent on satisfying the criteria in paragraphs (a) through (d) of this section.

(1) Cross-servicing. The uniformed services agree to cross-service the issuance of ID cards when affiliation and eligibility can be verified in DEERS. When eligibility cannot be verified through DEERS, presentation of documentation shall be required. The uniformed services shall restrict cross-servicing for verification of the DD Form 1172-2 and eligibility documentation to the parent uniformed service for the categories in paragraphs (e)(1)(i) through (viii) of this section:

(i) Initial application for permanently incapacitated individuals over age 21 and temporarily incapacitated children over age 21.

(ii) All dependent parents and parents-in-law.

(iii) Illegitimate child of a male sponsor, whose paternity has not been judicially determined.

(iv) Illegitimate child of spouse or sponsor.

(v) Unremarried and unmarried former spouses applying for initial issuance of an ID card.

(vi) Retiree from other services, and former members not currently enrolled in DEERS.

(vii) Surviving dependents of Reserve Retirees on the sponsor's 60th birthday.

(viii) Abused dependents.

(ix) Wards.

(2) Expiration dates. (i) Except as noted in paragraphs (e)(2)(i)(A) and (B) of this section, CACs shall be issued for a period not to exceed 3 years from the date of issuance or contract expiration date, whichever is shorter. Unfunded contract options shall be considered in the determination of the length of contract. For example, a contractor hired under DoD contract with a base year plus 2 option years shall be issued a CAC with a 3-year expiration. The expiration date of the PKI certificates on the CAC shall match the expiration date on the card.

(A) DD Form 1173, “United States Uniformed Services ID and Privilege Card,” or CACs issued to DoD civilian employees, contractors, and other eligible personnel assigned overseas or deploying in support of contingency operations shall have an expiration date coinciding with their deployment period end date.

(B) Service Academy students shall be issued 4-year cards with 3-year certificates.

(ii) Non-CAC ID cards shall be given expiration dates in accordance with the guidance listed on http://www.cac.mil.

(3) Renewal and reissuance. Consistent with applicable law, the applicant for ID renewal or reissuance shall be required to surrender the current DoD ID card that is up for renewal or reissuance except as indicated for lost and stolen ID cards in paragraph (e)(3)(iii) of this section. To authenticate renewal or reissuance applicants, the VO shall visually compare the applicant against the facial image stored in DEERS. For applicants who have fingerprint biometrics stored in DEERS, live fingerprint biometrics samples shall be checked against the applicant's DEERS record. If the biometric check confirms the identity of the renewal or reissuance applicant then no additional documentation is required to verify identity other than the ID card that is being renewed or reissued (documentation may still be required to verify or re-verify eligibility as described in paragraph (d)(2) of this section). As a general practice for renewal or re-issuance, two fresh fingerprint biometric captures may be stored for applicable personnel through the initial procedures in paragraph (d)(4)(ii) of this section to support DMDC's biometric update schedule.

(i) An ID card holder may apply for a renewal starting 90 days prior to the expiration of a valid ID. The SPO can provide exceptions to this requirement.

(ii) An ID card shall be reissued when printed information requires changes (e.g., pay grade, rank, change in eligibility), when any of the media (including printed data, magnetic stripe, bar codes, or integrated circuit chip) becomes illegible or inoperable, or when a CAC is known or suspected to be compromised.

(iii) An ID card shall be reissued when it is reported lost or stolen. The individual reporting a lost or stolen ID card shall be required to provide a valid (unexpired) State or Federal Government-issued picture ID as noted in paragraph (d)(1) of this section, consistent with applicable law, when available. If the individual is unable to present the required identity documentation, a biometric verification shall be used as proof of identity as described in paragraph (e)(3)(iii)(A) of this section. The VO shall verify the cardholder's identity against the biometric information stored in DEERS and confirm the expiration date of the missing ID card. The individual shall also be required to present documentation from the local security office or ID card sponsor confirming that the ID card has been reported lost or stolen. This documentation must be scanned and stored in DEERS. For dependents, the DD Form 1172-2 serves as the supporting documentation for a lost or stolen card. For individuals sponsored through TASS, the replacement ID card shall have the same expiration date as the lost or stolen card.

(A) If no identity documentation is available but biometric information (facial image or fingerprint when applicable) in the DEERS database can be verified by the VO, an ID card can be reissued to the individual upon the additional approval of a SSM. This transaction shall be digitally signed and audited.

(B) If biometric information cannot be verified, the requirements for initial issuance shall apply or a temporary card may be issued in accordance with paragraph (e)(4) of this section.

(4) Temporary cards—(i) Temporary issuance of a CAC. During contingency operations, in the event there is no communication with the DEERS database or the certificate authority, a temporary CAC may be issued with an abbreviated expiration date for a maximum of 10 days. The temporary card will not have PKI certificates and will be replaced as soon as the member can reach an online RAPIDS station or communications have been restored. Additionally, the temporary CAC does not communicate or imply eligibility to any DoD benefit. This capability will be enabled only at affected RAPIDS sites and must have approval granted by DMDC.

(ii) Temporary issuance of a Uniformed Services Identification card. There are multiple scenarios under which a temporary Uniformed Services Identification card may be issued. The uniformed services shall develop standard processes and procedures for scenarios requiring issuance of a temporary DD Forms 2765 “Department of Defense/Uniformed Services Identification and Privilege Card” or DD 1173, including but not limited to those situations where the applicant needs to obtain the necessary legal documentation or the sponsor is unavailable to provide an authorizing signature.

(5) Multiple cards. Individuals shall be issued a separate ID card for each population category for which they qualify as described in Appendix 1 of this section. In instances where an individual has been issued more than one ID card (e.g., an individual that is eligible for an ID card as both a Reservist and as a DoD contractor employee), only the ID card that most accurately depicts the capacity in which the individual is affiliated with the DoD should be utilized at any given time.

(f) Use and maintenance. In accordance with this part, ID cards shall be used as proof of identity and DoD affiliation to facilitate access to DoD facilities and systems. Additionally, ID cards shall represent authorization for entitled benefits and privileges in accordance with DoD policies. The CAC, as the DoD Federal PIV card, is governed and supported by additional policies and infrastructure when compared to non-CAC ID cards. This section provides additional guidance on CAC use and maintenance:

(1) Access. The granting of access privileges is determined by the facility or system owner as prescribed by the DoD.

(2) Accountability. CAC holders will maintain accountability of their CAC at all times while affiliated with the DoD.

(3) PKI. Using the RAPIDS platform, DoD PKI identity and PIV authentication certificates will be issued on the CAC at the time of card issuance in compliance with OPM Memorandum, “Final Credentialing Standards for Issuing Personal Identity Verification Cards under HSPD-12.” Email signature, email encryption, or PIV authentication certificates may also be available on the CAC either upon issuance or at a later time. If the person receiving a CAC does not have an organization email address assigned to them, they may return to a RAPIDS terminal or use milConnect to receive their email certificate when the email address has been assigned. To help prevent inadvertent disclosure of controlled information, email addresses assigned by an organization shall comply with DoD Instruction 8500.2, “Information Awareness (IA) Implementation” (available at http://www.dtic.mil/whs/directives/corres/pdf/850002p.pdf).

(4) milConnect. DoD has a self-service Web site available that allows an authenticated CAC holder to add applets to the CAC, change the email address, add/update Email Signature and Email Encryption Certificates, and activate the Personal Identity Verification (PIV) Authentication certificate. This capability can be utilized from any properly configured UNCLASSIFED networked workstation. The milConnect Web site is https://www.dmdc.osd.mil/milconnect.

(5) CAC Personal ID Number (PIN) Reset. DoD has manned workstations capable of resetting the PINs of a CAC holder with a locked card or forgotten PIN. These workstations are intended to provide alternative locations for CAC holders to service their cards other than RAPIDS issuance locations. To authenticate cardholders, live biometric samples shall be checked against the biometrics stored in DEERS prior to resetting CACs. This process requires the presence of a CPR trusted agent (CTA) or TASM or RAPIDS VO or SSM.

(g) Retrieval and revocation. In accordance with this part, ID cards shall be retrieved by the sponsor or sponsoring organization when the ID card has expired, when it is damaged or compromised, or when the card holder is no longer affiliated with the DoD or no longer meets the eligibility requirements for the card. The active status of the card shall be terminated within the DEERS and RAPIDS infrastructure. The CAC, as the DoD Federal PIV card, is governed and supported by additional policies and infrastructure when compared to non-CAC ID cards. This section provides additional guidance on CAC retrieval and revocation:

(1) CACs shall be retrieved as part of the normal organizational or command-level check-out processes. The active status of the CAC shall also be terminated in special circumstances (e.g., absent without leave, unauthorized absence, missing in action) in accordance with organization or command-level security policies.

(2) The DoD sponsor or sponsoring organization is ultimately responsible for retrieving CACs from their personnel who are no longer supporting their organization or activity. CAC retrieval will be documented and treated as personally identifiable information, in accordance with DoD Regulation 5200.1-R, and 32 CFR part 310 and receipted to a RAPIDS site for disposition in a timely manner.

(3) Upon loss, destruction, or revocation of the CAC, the certificates thereon are revoked and placed on the certificate revocation list in accordance with Assistant Secretary of Defense for Networks and Information Integration Certificate Policy, “X.509 Certificate Policy for the United States Department of Defense” (available at http://jitc.fhu.disa.mil/pki/documents/dod_x509_certificate_policy_v9_0_9_february_2005.pdf). All other situations that pertain to the disposition of the certificates are handled in accordance with Assistant Secretary of Defense for Networks and Information Integration Certificate Policy, “X.509 Certificate Policy for the United States Department of Defense” as implemented.

Appendix 1 to § 161.7—ID Card Descriptions and Population Eligibility Categories

(a) Overview. Paragraphs (b) through (e) of this appendix contain information on the CAC type of ID card. The remaining paragraphs in the appendix contain information on all other versions of DoD enterprise-wide ID cards. This appendix describes these cards and lists some of the categories of populations that are eligible to be sponsored for the cards under the guidelines described in paragraph (a) of § 161.7; additional ID-card eligible categories are codified in subpart C of this part. RAPIDS accesses DEERS information collected by the DD Form 1172-2 to generate all of the ID Cards identified in this appendix. The benefits and entitlements that support ID card eligibility for populations in this appendix are described in subpart C of this part. Guidelines and restrictions that pertain to all forms of DoD ID cards are included in this part.

(b) Armed Forces of the United States Geneva Conventions ID Card—(1) Description. This CAC is the primary ID card for uniformed services members and shall be used to identify the member's eligibility for benefits and privileges administered by the uniformed services as described in subpart C of this part. The CAC shall also be used to facilitate standardized, uniform access to DoD facilities, installations, and computer systems.

(i) The card shall also serve as ID for purposes of Geneva Convention requirements in accordance with DoD Instruction 1000.01.

(ii) If a member is captured as a hostage, detainee, or prisoner of war (POW), the card shall be shown to the capturing authorities, but, insofar as possible, should not be surrendered.

(2) Eligibility. Those populations eligible for this type of CAC include:

(i) Members of the regular components of the Military Services.

(ii) Members of the Selected Reserve of the Ready Reserve of the Reserve Components.

(iii) Members of the IRR of the Ready Reserve authorized in accordance with regulations prescribed by the Secretary of Defense to perform duty in accordance with 10 U.S.C. 10147.

(iv) Uniformed services members of NOAA and USPHS.

(c) U.S. DoD or Uniformed Services ID Card—(1) Description. This CAC is the primary ID card for eligible civilian employees, contractors, and foreign national affiliates and shall be used to facilitate standardized, uniform access to DoD facilities, installations, and computer systems.

(2) Eligibility. (i) DoD civilian employees are eligible for this CAC, to include:

(A) Individuals appointed to appropriated fund and NAF positions.

(B) USCG and NOAA civilian employees.

(C) Permanent or time-limited employees on full-time, part-time, or intermittent work schedules for 6 months or more.

(D) SES, Competitive Service, and Excepted Service employees.

(ii) Eligibility for additional populations shall be based on a combination of the personnel category and the DoD Government sponsor's determination of the type and frequency of access required to DoD networks and facilities described in paragraph (a) of § 161.7 of this subpart. These personnel categories include:

(A) Non-DoD civilian employees to include:

(1) State employees working in support of the National Guard.

(2) IPA employees.

(3) Non-DoD Federal employees that are working in support of DoD but do not possess a Federal PIV card that is accepted by the sponsoring DoD Component. DoD Components shall obtain DHRA approval prior to sponsorship.

(B) DoD contractors.

(C) USCG and NOAA contractors.

(D) Persons whose affiliation with DoD is established through:

(1) Direct and Indirect Hiring Overseas. Non-U.S. citizens hired under an agreement with the host nation and paid directly by the uniformed services (direct hire) or paid by an entity other than the uniformed services for the benefits of the uniformed services (indirect hire).

(2) Assignment as Foreign Military, Foreign Government Civilians, or Foreign Government Contractors to Support DoD Missions. Non-U.S. citizens who are sponsored by their government as part of an official visit or assignment to work with DoD.

(3) Procurement Contracts, Grant Agreements or Other Cooperative Agreements. Individuals who have a established relationship between the U.S. Government and a State, a local government, or other recipient as specified in 31 U.S.C. 6303, 6304, and 6305.

(d) U.S. DoD or Uniformed Services ID and Privilege Card—(1) Description. This CAC is the primary ID card for civilian employees, contractors, and foreign national military, as well as other eligible individuals entitled to benefits and privileges administered by the uniformed services as described in subpart C of this part. The CAC shall be used to facilitate standardized, uniform access to DoD facilities, installations, and computer systems.

(2) Eligibility. Specific population categories are entitled to benefits and privileges, in accordance with subpart C of this part, and shall be eligible for this CAC, to include:

(i) DoD and uniformed services civilian employees (both appropriated and non-appropriated) when required to reside in a household on a military installation within the CONUS, Hawaii, Alaska, Puerto Rico, and Guam.

(ii) DoD and uniformed services civilian employees when stationed or employed and residing in foreign countries for a period of at least 365 days.

(iii) DoD contractors when stationed or employed and residing in foreign countries for a period of at least 365 days.

(iv) DoD Presidential appointees who have been appointed with the advice and consent of the Senate.

(v) Civilian employees of the Army and Air Force Exchange System, Navy Exchange System, and Marine Corps Exchange System and NAF activity employees of the Coast Guard Exchange Service.

(vi) Uniformed and non-uniformed full-time paid personnel of the Red Cross assigned to duty with the uniformed services within the CONUS, Hawaii, Alaska, Puerto Rico, and Guam, when required to reside in a household on a military installation.

(vii) Uniformed and non-uniformed, full-time, paid personnel of the Red Cross assigned to duty with the uniformed services in foreign countries.

(viii) Foreign military who meet the eligibility requirement of paragraph (a)(2) of § 161.7 and are in one of the categories in paragraphs (d)(2)(viii)(A) through (C) of this appendix. Those foreign military not meeting the eligibility requirements for CAC as described in paragraph (a)(2) of § 161.7 shall be issued a DD Form 2765 as described in paragraph (l) of this appendix.

(A) Active duty officers and enlisted personnel of North Atlantic Treaty Organization (NATO) and Partnership For Peace (PFP) countries serving in the United States under the sponsorship or invitation of the DoD or a Military Department.

(B) Active duty officers and enlisted personnel of non-NATO countries serving in the United States under the sponsorship or invitation of the DoD or a Military Department.

(C) Active duty officers and enlisted personnel of NATO and non-NATO countries when serving outside the United States and outside their own country under the sponsorship or invitation of the DoD or a Military Department, or when it is determined by the major overseas commander that the granting of such privileges is in the best interests of the United States and such personnel are connected with, or their activities are related to, the performance of functions of the U.S. military establishment.

(e) U.S. DoD or Uniformed Service Geneva Conventions ID Card for Civilians Accompanying the Armed Forces—(1) Description. This CAC serves as the DoD and/or Uniformed Services Geneva Conventions ID card for civilians accompanying the uniformed services and shall be used to facilitate standardized, uniform access to DoD facilities, installations, and computer systems.

(2) Eligibility. The following population categories are eligible for this CAC:

(i) Emergency-essential employees as defined in DoD Directive 1404.10, “DoD Civilian Expeditionary Workforce” (available at http://www.dtic.mil/whs/directives/corres/pdf/140410p.pdf).

(ii) Contractors authorized to accompany the force (contingency contractor employees) as defined in Joint Publication 1-02 (available at http://www.dtic.mil/doctrine/new_pubs/jp1_02.pdf).

(f) DD Form 2, “Armed Forces of the United States Identification Card (Reserve).”—(1) Description. This is the primary ID card for RC members not eligible for a CAC. Benefits and privileges shall be administered by the uniformed services as described in subpart C of this part.

(i) The DD Form 2S (RES) shall serve as ID for purposes of the Geneva Convention requirements in accordance with DoD Instruction 1000.01.

(ii) If a member is captured as a hostage, detainee, or POW, the DD Form 2S (RES), shall be shown to the capturing authorities, but, insofar as possible, should not be surrendered.

(2) Eligibility. Those populations eligible for the DD Form 2S (RES) include:

(i) Ready Reserve, who are not otherwise entitled to either DD Form 2S (RET), “Armed Forces of the United States Geneva Conventions Identification Card (Retired) (Blue),” or a CAC.

(ii) The Standby Reserve.

(iii) The Reserve Officers' Training Corps College Program students that have signed a contract leading to military service.

(g) DD Form 2S (Ret)—(1) Description. This is the primary ID card for retired uniformed services members entitled to retired pay. Benefits and privileges shall be administered by the uniformed services as described in subpart C of this part.

(2) Eligibility. Members of the uniformed services who are entitled and in receipt of retired pay, or entitled and have waived their retired pay, are eligible for the DD 2S (RET).

(h) DD Form 2, “United States Uniformed Services Identification Card (Reserve Retired).”—(1) Description. This is the primary ID card for members of the National Guard or Reserves who have completed 20 creditable years of service and have elected to be transferred to the Retired Reserve. They will qualify for pay at age 60, or earlier if they have qualified contingency service.

(2) Eligibility. Members of the Reserve Components who are entitled to retired pay at age 60 (or earlier if they have qualified contingency service) and have not yet attained age 60 are eligible for the DD Form 2 (Reserve Retired).

(i) DD Form 1173—(1) Description. This is the primary ID card for dependents and other similar categories of individuals eligible for benefits and privileges administered by the uniformed services as described in subpart C of this part.

(2) Eligibility. Specific population categories entitled to benefits and privileges as described in subpart C of this part are eligible for the DD Form 1173 to include:

(i) Dependents of active duty Service members of the regular components, Reserve Component Service members on active duty for more than 30 days, and retirees.

(ii) Surviving dependents of active duty members.

(iii) Surviving dependents of retired military members.

(iv) Surviving dependents of MOH recipients and surviving dependents of honorably discharged veterans rated by the Department of Veterans Affairs (VA) as 100 percent disabled from a uniformed services-connected injury or disease at the time of his or her death.

(v) Accompanying dependents of foreign military.

(vi) Dependents of authorized civilian personnel overseas.

(vii) Other benefits eligible categories as described in subpart C of this part.

(j) DD Form 1173-1, “Department of Defense Guard and Reserve Family Member Identification Card.”—(1) Description. This is the primary ID card for dependents of Ready Reserve and Standby Reserve members not on active duty in excess of 30 days. When accompanied by a set of the sponsor's valid active duty orders, the card shall be used in place of a DD Form 1173 for a period of time not to exceed 270 days, if the member is called to active duty by congressional decree or Presidential call-up under 10 U.S.C. chapter 1209.

(2) Eligibility. Eligible dependents of Reserve Component members and retirees as described in subpart C of this part are eligible for the DD Form 1173-1.

(k) DD Form 2764, “United States DoD/Uniformed Services Geneva Conventions Card.”—(1) Description. This is the primary ID for non-CAC eligible civilian noncombatant personnel who are deployed in conjunction with military operations overseas. The DD Form 2764 also replaces DD Form 489, “Geneva Conventions Identity Card for Civilians Who Accompany the Armed Forces.”

(2) Eligibility. Civilian noncombatant personnel who have been authorized to accompany U.S. forces in regions of conflict, combat, and contingency operations and who are liable to capture and detention by the enemy as POWs are eligible for the DD Form 2764 in accordance with DoD Instruction 1000.01.

(l) DD Form 2765—(1) Description. This is the primary ID card for categories of individuals, other than current or retired members of the uniformed services, who are eligible for uniformed services benefits and privileges in their own right without requiring a current affiliation with another sponsor.

(2) Eligibility. Those populations eligible for the DD Form 2765 include:

(i) Foreign national military personnel described in paragraph (d)(2)(viii) of this appendix that cannot meet all criteria for CAC issuance.

(ii) Former members.

(iii) Members eligible for transitional health care (THC). These individuals shall be eligible for DD Form 2765 (with a “TA” overstamp) showing expiration date for each benefit, as shown on the reverse of the card.

(iv) MOH recipients.

(v) DAV (rated 100 percent disabled by the Department of Veterans Affairs).

(vi) Former spouse (that qualify as a DoD beneficiary).

(vii) Civilian personnel in the categories listed in paragraphs (l)(2)(vii)(A) through (D) of this appendix:

(A) Other U.S. Government agency civilian employees when stationed or employed and residing in foreign countries for a period of at least 365 days.

(B) Area executives, center directors, and assistant directors of the United Service Organization, when serving in foreign countries.

(C) United Seaman's Service (USS) personnel in foreign countries.

(D) Military Sealift Command (MSC) civil service marine personnel deployed to foreign countries on MSC-owned and -operated vessels.

(m) DoD Civilian Retiree Card—(1) Description. This ID shall only be used to establish DoD civilian retiree identity and affiliation with the DoD.

(2) Eligibility. Appropriated and NAF civilians that have retired from any DoD Service component or agency are eligible for the DoD Civilian Retiree Card. These civilians must have their retired status verified in DEERS before an ID card can be issued.

(n) NOAA Retired Wage Mariner and Family Member Card—(1) Description. The NOAA Retired Wage Mariner and Family Member Card is a sub-category of the DoD Civilian Retiree Card and shall be used to establish identity and affiliation with the DoD and to identify the individual's eligibility for benefits and privileges administered by the uniformed services as described in subpart C of this part.

(2) Eligibility. Retired Wage Mariners of NOAA and their dependents as described in subpart C of this part are eligible for the NOAA Retired Wage Mariners and Family Members Card.

Appendix 2 to § 161.7—Topology Specifications

(a) Topology. Graphical representations of all CACs are maintained at www.cac.mil.

(b) CAC stripe color coding. The CAC shall be color-coded as indicated in the Table to reflect the status of the holder of the card.

(1) If a person meets more than one condition as shown in the Table, priority will be given to the blue stripe to denote a non-U.S. citizen unless the card serves as a Geneva Conventions card.

(2) FIPS Publication 201-1 reserves the color red to distinguish emergency first responder officials. Until the DoD implementation of Homeland Security Presidential Directive 12 is complete, the color red will also be used to denote non-U.S. personnel in the same manner as the blue stripe in the Table (i.e., some cards with red stripes may continue to exist in circulation until the 3-year life cycle is complete).

Table—CAC Stripe Color Coding
No stripe | U.S. military and DoD civilian personnel or any personnel eligible for a Geneva Conventions card
Blue | Non-U.S. personnel, including DoD contract employees (other than those persons requiring a Geneva Conventions card).
Green | All U.S. citizen personnel under contract to the DoD (other than those persons requiring a Geneva Conventions card).

(c) CAC printed statements—(1) Eligible individuals who are permanently assigned in foreign countries for at least 365 days (it should be noted that local nationals are in their home country, not a foreign country) will have the word “OVERSEAS” printed within the authorized patronage area of the CAC.

(2) The authorized patronage area for eligible individuals permanently assigned within CONUS will be blank. Travel orders authorize access for these individuals while en route to the deployment site.

(3) During a conflict, combat, or contingency operation, civilian employees with a U.S. DoD or Uniformed Services Geneva Conventions ID Card for Civilians Accompanying the Uniformed Services will be granted all commissary; exchange; MWR; and medical privileges available at the site of the deployment, regardless of the statements on the ID card. Contractor employees possessing this ID card shall receive the benefit of those commissary, exchange, MWR, and medical privileges that are accorded to such persons by international agreements in force between the United States and the host country concerned and their letter of authorization.

(4) The medical area on the card for individuals on permanent assignment in a foreign country will contain the statement: “When TAD/TDY or stationed overseas on a space available fully reimbursable basis.” However, civilian employees and contractor employees providing support when forward deployed during a conflict, combat, or contingency operation are treated in accordance with 10 U.S.C. 10147 and chapters 1209 and 1223 and DoD Instruction 3020.41, “Operational Contract Support” (available at http://www.dtic.mil/whs/directives/corres/pdf/302041p.pdf), and the Deputy Secretary of Defense Memorandum, “Policy Guidance for Provision of Medical Care to Department of Defense Civilian Employees Injured or Wounded While Forward Deployed in Support of Hostilities” (available at http://cpol.army.mil/library/nonarmy/dod_092407.pdf).

(d) Blood type indicators. A blood type indicator is an optional data element on the ID card and will only appear on the card if the blood type is provided by an authoritative data source prescribed by TRICARE Management Activity.

(e) Organ donor indicators. An organ donor indicator is an optional data element on the ID card and will only appear if the card applicant opts for this feature at the time of card issuance.

§ 161.8 ID card life-cycle roles and responsibilities.

(a) General. This section provides the roles and responsibilities associated with a series of processes and systems that support the ID card life-cycle. The requirements provided in this section may be supplemented by military Service guidance, DoD Component-level procedures and DMDC procedural and system documentation on DEERS, RAPIDS, TASS, and CPR.

(b) Separation of duties. The ID card life-cycle includes a requirement for a separation of duties to support the issuance process. This rule requires more than one person to serve in an official role during the sponsorship and enrollment and issuance processes. Authorizing a RAPIDS SSM or VO to exercise the duties of a TASS TASM, TA, or sponsor would allow a single individual to control the ID card issuance process, from record creation to card issuance. Individuals serving in the role of a RAPIDS SSM or VO shall not exercise the role of the TASS TASM or TA or the role of the signatory sponsor on the DD Form 1172-2. (In the case of their own dependents, a RAPIDS SSM or VO can serve as the sponsor on the DD Form 1172-2 but cannot serve as the VO for card issuance.)

(c) DD Form 1172-2. The DD Form 1172-2 shall be used to collect the information necessary to register ID card and CAC applicants in DEERS via RAPIDS who are not enrolled through an authorized personnel data feed or are not registered through TASS. The DD Form 577, “Appointment/Termination Record—Authorized Signature,” shall be used to verify the sponsoring individual's signature, when verification through RAPIDS is unavailable. This form is to be used primarily for DEERS enrollment and verification of initial and continued association for dependents and DoD affiliates (e.g., foreign national military). The DD Form 1172-2 shall also be used to add benefits conditions for eligible personnel in accordance with DMDC, “Real-time Automated Personnel Identification System (RAPIDS) User Guide” and subpart C of this part. Retention and disposition of the DD Form 1172-2 shall be in accordance with the uniformed services' regulatory instructions. In the absence of electronic verification of sponsorship for the enrollment or reenrollment of dependents, the sponsor signing block 65 in Section 5 of the DD Form 1172-2 for the ID card applicant:

(1) Shall be a uniformed services member, retiree, civilian employee working for the sponsoring organization, or an individual entitled to DoD benefits in their own right, without requiring relationship to another sponsor, as described in subpart C of this part.

(2) Must be a DoD ID card or CAC holder.

(3) Shall establish the applicant's initial and continued relationship to the sponsor, affiliation with DoD, and need for a CAC card in accordance with this subpart and DoD Component-level procedures.

(d) TASS. TASS shall serve as the sponsorship and DEERS data registration tool for CAC-eligible DoD contractors and other populations as determined by the Director, DHRA. TASS employs an automated version of the DD Form 1172-2 to collect information necessary for DEERS enrollment. Organizations that use TASS shall adhere to the following guidelines on user roles:

(1) Service Point of Contact (SPOC). A DoD Component that utilizes TASS shall appoint a SPOC for TASS management and operation. The SPOC shall coordinate with the DMDC to establish a site with TASS capability. The SPOC shall create policies, operating procedures, and other supporting documentation in support of the Service or agency-specific implementation. The SPOC will oversee TASM registration, and provide any other required field support. The TASS SPOC:

(i) Must be a U.S. citizen.

(ii) Must be a uniformed services member, civilian employee working for the sponsoring organization, or a DoD contractor providing management support to the service or agency implementing TASS (a contractor cannot perform the TA or TASM role).

(iii) Must be capable of sending and receiving digitally signed and encrypted email.

(iv) Must be a CAC holder.

(v) Shall complete the training provided by DMDC for the TASM and TA roles.

(2) TASM. The TASM will act as a TA and oversee the activity for TASS site TAs. A TASS TASM:

(i) Must be a U.S. citizen.

(ii) Must be a uniformed services member or a DoD civilian employee working for the sponsoring organization.

(iii) Must be capable of sending and receiving digitally signed and encrypted email.

(iv) Must be a CAC holder.

(v) Shall complete the training provided by DMDC for the TASM role.

(3) TA. TAs shall be sponsors for eligible populations within TASS and will utilize TASS to register data for the DD Form 1172-2, re-verify CAC holder affiliation, and revoke CACs in accordance with this part and the DMDC “Contractor Verification System TASS (CVS) TASM/TA and Applicant User Guides, Version 3.03” (available at https://www.dmdc.osd.mil/appj/cvs/login). Sponsoring an applicant is a multi-step process which includes establishing the individual's eligibility in accordance with paragraph (a) of § 161.7 of this subpart and verifying that the individual has the necessary background investigation completed to be issued a CAC in accordance with paragraph (c) of § 161.7 of this subpart. A TASS TA:

(i) Must be a U.S. citizen.

(ii) Must be a uniformed services member, a DoD civilian employee working for the sponsoring organization, or a non DoD Federal agency employee approved by DHRA.

(iii) Must be capable of sending and receiving digitally signed and encrypted email.

(iv) Must be a CAC holder.

(v) Shall complete the training provided by DMDC for the TA role.

(vi) Shall manage no more than 100 active contractors at any given time within TASS. Exceptions to this limit can be authorized by the DoD Component concerned to address specific contract requirements that substantiate a need for a larger contractor-to-TA ratio. The DoD Component SPOC shall document any authorized exceptions to the 100-contractors limit and shall, at a minimum, conduct annual audits on the oversight functions of these specific TAs.

(vii) Shall coordinate with their contracting personnel when establishing the contractor's initial and continued affiliation with DoD and need for CACs in accordance with agency or Component-level procedures.

(viii) Shall coordinate with their contracting, human resources, or personnel security organizations to confirm that the appropriate background check has been completed for CAC applicants.

(ix) Shall re-verify a CAC holder's need for a CAC every 6 months (180 days) within TASS.

(x) Shall revoke the CAC within the TASS upon termination of employment or completion of affiliation with the DoD.

(xi) Shall ensure that the CAC is retrieved upon the CAC holder's termination of employment or completion of affiliation with the DoD.

(e) RAPIDS. RAPIDS must be operated in accordance with DMDC, “Real-time Automated Personnel Identification System (RAPIDS) User Guide.” RAPIDS shall be supported by:

(1) SSM. The SSM shall manage the daily operations at a RAPIDS site to include managing users, cardstock, and consumables. The SPO shall assign a primary and secondary SSM to each site to ensure the site continues to function in the absence of one of the SSMs. The SSM shall perform all responsibilities of a RAPIDS user (VO), as well as all SSM responsibilities. The SSM shall:

(i) Be a U.S. citizen.

(ii) Be a uniformed services member, civilian employee working for the sponsoring organization, or a DoD contractor.

(iii) Be a CAC holder.

(iv) Complete the training provided by DMDC for the SSM and VO roles.

(v) Be responsible for supporting RAPIDS functions delineated in DMDC, “Real-time Automated Personnel Identification System (RAPIDS) User Guide.”

(vi) Must have a favorably adjudicated NACI.

(2) VO. The VO shall complete identity and eligibility verification and card issuance functions in accordance with this part. The VO:

(i) Must be a U.S. citizen.

(ii) Must be a uniformed services member, civilian employee working for the sponsoring organization, or a DoD contractor.

(iii) Must be a CAC holder.

(iv) Shall complete the training provided by DMDC for the VO role.

(v) Be responsible for supporting RAPIDS functions delineated in DMDC, “Real-time Automated Personnel Identification System (RAPIDS) User Guide.”

(f) CPR. Organizations that utilize CPR shall adhere to the guidelines in this section on user roles:

(1) CPR project officer. The CPR project officer (CPO) shall be appointed by the Service or Agency as the focal point for day-to-day CPR management and operation. The CPO:

(i) Must be a U.S. citizen.

(ii) Must be a uniformed services member, civilian employee working for the sponsoring organization, or a DoD contractor.

(iii) Must be a CAC holder.

(iv) Must establish sites with CPR capability, oversee CPR TASM registration, and ensure other required field support in accordance with DMDC and Service- or agency-level guidelines.

(2) CPR TASM. The CPR TASM manages the CPR trusted agent (CTA) operations. The CPR TASM:

(i) Must be a U.S. citizen.

(ii) Must be a uniformed services member, civilian employee working for the sponsoring organization, or a DoD contractor.

(iii) Must be a CAC holder.

(iv) Shall complete the required training and manage CTA operations in accordance with DMDC and Service- or agency-level guidelines.

(3) CTA. The CTA's primary role is to provide PIN reset. The CTA:

(i) Must be a U.S. citizen.

(ii) Must be a uniformed services member, civilian employee working for the sponsoring organization, or a DoD contractor.

(iii) Must be a CAC holder.

(iv) Shall complete the required training and conduct CPR operations in accordance with DMDC and Service- or agency-level guidelines.

Subpart C—DoD Identification (ID) Cards: Benefits for Members of the Uniformed Services, Their Dependents, and Other Eligible Individuals

§ 161.9 DoD benefits.

(a) The benefits population is defined by roles. There are roles that have a direct affiliation with the DoD, such as an active duty Service member, or those that have an association to someone who is affiliated, such as the spouse of an active duty member. This section reflects benefit eligibility established by law and affiliated DoD policy, and covers the roles that either receive CHC, direct care at an MTF, commissary, exchange, and MWR benefits, or are only affiliated to be issued a DoD-authorized CAC or uniformed services ID card. Sections 161.10 through 161.22 identify the categories of eligible persons and their authorized benefits as they would be recorded in the Defense Eligibility Enrollment Reporting System (DEERS).

(1) Sections 161.10 through 161.22 reflect the eligibility of persons for benefits.

(2) A sponsor's begin date for benefit eligibility is based on the date the sponsor begins their affiliation with the Department.

(3) A dependent's begin date for benefit eligibility is based on the date the dependent becomes associated as an eligible dependent to an eligible sponsor.

(4) Guidance on benefit eligibility begin dates and ID card expiration dates based on benefits will be maintained at http://www.cac.mil.

(5) Refer to the figure for abbreviations for the tables in this subpart.

Figure—Benefits Table Abbreviations
CHC | civilian health care.
DC | direct care at MTFs.
C | commissary privileges.
MWR | MWR privileges.
E | exchange privileges.

§ 161.10 Benefits for active duty members of the uniformed services.

(a) This section describes the benefits for active duty uniformed services members and their eligible dependents administered by the uniformed services in accordance with 10 U.S.C. chapter 55 and DoD Instruction 1330.17, “Armed Services Commissary Operations” (available at http://www.dtic.mil/whs/directives/corres/pdf/133017p.pdf); DoD Instruction 1330.21, “Armed Services Exchange Regulations” (available at http://www.dtic.mil/whs/directives/corres/pdf/133021p.pdf); and DoD Instruction 1015.10. Descriptions of benefits for National Guard and Reserve members and their eligible dependents are contained in § 161.11. Descriptions of benefits for surviving dependents of active duty uniformed services members are contained in § 161.17.

(1) Active duty service members. Active duty uniformed services members are eligible for benefits administered by the uniformed services as shown in Table 1.

Table 1 to Part 161—Benefits for Active Duty Members, Not Including National Guard or Reserve Members
| CHC | DC | C | MWR | E
Member (Self) | No | Yes | Yes | Yes | Yes.

(2) Dependents of active duty members. Dependents of active duty members are eligible for benefits as shown in Table 2 to part 161. Benefits for the eligible dependents of National Guard or Reserve members, non-regular Service retirees not yet age 60, or members entitled to retired pay or who are in receipt of retired pay for non-regular service, and non-regular Service retirees who are not in receipt of retired pay are identified in §§ 161.11 through 161.14.

Table 2 to Part 161—Benefits for Dependents of Active Duty Members
| CHC | DC | C | MWR | E
Spouse | Yes | Yes | Yes | Yes | Yes.
Children, Unmarried, Under 21 Years:
Legitimate, adopted, stepchild, illegitimate child of record of female member, or illegitimate child of male member whose paternity has been judicially determined or voluntarily acknowledged | Yes | Yes | 1 | 2 | 2.
Ward | 3 | 3 | 3 | 3 | 3.
Pre-adoptive Child | 4 | 4 | 4 | 4 | 4.
Foster Child | No | No | 1 | 1 | 1.
Children, Unmarried, 21 Years and Over | 5 | 5 | 1, 5 | 5 | 5.
Father, Mother, Father-in-Law, Mother-in-Law, Stepparent, or Parent by Adoption | No | 1 | 1 | 2 | 2.
Notes:
1. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408(h).
2. Yes, if dependent on an authorized sponsor for over 50 percent support or children of a sponsor residing in the household of a former spouse (20-20-20 or 10-20-10).
3. Yes, if, for determination of dependency made on or after July 1, 1994, placed in the legal custody of the member as a result of a court of competent jurisdiction in the United States (or possession of the United States) for a period of at least 12 consecutive months; and:
a. Is dependent on the member for over 50 percent support.
b. Resides with the member unless separated by the necessity of military service or to receive institutional care as a result of a disability or incapacitation or under such other circumstances as the administering Secretary or Director may, by regulation, prescribe.
4. Yes, if, for determinations of dependency made on or after October 5, 1994, placed in the home of the member by a placement agency (recognized by the Secretary of Defense) or by another organization authorized by State or local law to provide adoption placement, in anticipation of the legal adoption by the member.
5. Yes, if the child:
a. Has not attained the age of 23, is enrolled in a full-time course of study at an institution of higher learning approved by the administering Secretary and is dependent on the member for over 50 percent of the child's support; or
b. Is incapable of self-support because of a mental or physical incapacity that existed before age 21, or occurred before the age of 23 while a full-time student, while a dependent of a member and is dependent on the member for over 50 percent of the child's support.

§ 161.11 Benefits for National Guard and Reserve Members of the Uniformed Services.

(a) This section describes the benefits for National Guard and Reserve members of the uniformed services and their eligible dependents. Benefits for members of the Retired Reserve and their eligible dependents are described in § 161.13. Benefits for surviving dependents of deceased National Guard and Reserve members are described in § 161.17.

(1) National Guard and Reserve members. National Guard and Reserve members are eligible for benefits based on being ordered to periods of active duty or full-time National Guard duty or active status in the SelRes, including Ready Reserve and Standby Reserve and participation in the Reserve Officer Training Corps.

Table 3 to Part 161—Benefits for National Guard and Reserve Members Not on Active Duty Greater Than 30 Days
| CHC | DC | C | MWR | E
Member (Self) | No | No | Yes | Yes | Yes.

Table 4 to Part 161—Benefits for National Guard and Reserve Members on Active Duty for Periods Greater Than 30 Days
| CHC | DC | C | MWR | E
Member (Self) | No | Yes | Yes | Yes | Yes.
Notes:
1. This includes reported periods of early identification of Service members in support of a contingency operation in accordance with DoD Instruction 7730.54, “Reserve Components Common Personnel Data System (RCCPDS)” (available at http://www.dtic.mil/whs/directives/corres/pdf/773054p.pdf).

(2) Dependents of National Guard or Reserve Members. Dependents of National Guard or Reserve members are eligible for benefits as shown in Table 5.

Table 5 to Part 161—Benefits for Dependents of National Guard or Reserve Members
| CHC | DC | C | MWR | E
Spouse | 1 | 1 | Yes | Yes | Yes.
Children, Unmarried, Under 21 Years:
Legitimate, adopted, stepchild, illegitimate child of record of female member, or illegitimate child of male member whose paternity has been judicially determined or voluntarily acknowledged | 1 | 1 | 2 | 3 | 3.
Ward | 1, 4 | 1, 4 | 4 | 4 | 4.
Pre-adoptive Child | 1, 5 | 1, 5 | 5 | 5 | 5.
Foster Child | No | No | 2 | 2 | 2.
Children, Unmarried, 21 Years and Over | 1, 6 | 1, 6 | 2, 6 | 6 | 6.
Father, Mother, Father-in-Law, Mother-in-Law, Stepparent, or Parent by Adoption | No | 1, 2 | 2 | 3 | 3.
Notes:
1. Yes, if the sponsor is on active duty greater than 30 days. When the order to active duty period is greater than 30 days the eligibility for CHC and DC for eligible dependents begins on the first day of the active duty period.
2. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408(h).
3. Yes, if dependent on an authorized sponsor for over 50 percent support, or children of a sponsor residing in the household of a former spouse (20-20-20 or 10-20-10).
4. Yes, if, for determination of dependency made on or after July 1, 1994, placed in the legal custody of the member as a result of a court of competent jurisdiction in the United States (or possession of the United States) for a period of at least 12 consecutive months; and:
a. Is dependent on the member for over 50 percent support.
b. Resides with the member unless separated by the necessity of military service or to receive institutional care as a result of a disability or incapacitation or under such other circumstances as the administering Secretary may, by regulation, prescribe.
5. Yes, if, for determinations of dependency made on or after October 5, 1994, placed in the home of the member by a placement agency (recognized by the Secretary of Defense) or by another source authorized by State or local law to provide adoption placement, in anticipation of the legal adoption by the member.
6. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member and is dependent on the member for over 50 percent of the child's support.

§ 161.12 Benefits for former uniformed services members.

(a) This section describes the benefits for former uniformed services members and their eligible dependents. Former members are eligible to receive retired pay, at age 60, for non-regular service in accordance with 10 U.S.C. chapter 1223, but have been discharged from their respective Service or agency and maintain no military affiliation.

(1) Former Members and their Eligible Dependents. Former members and their dependents are eligible for benefits as shown in Table 6 to part 161.

Table 6 to Part 161—Benefits for Former Members and Dependents
| CHC | DC | C | MWR | E
Former Member (Self) | 1 | 1 | Yes | Yes | Yes.
Lawful Spouse | 1 | 2 | Yes | Yes | Yes.
Children, Unmarried, Under 21 Years:
Legitimate, adopted, stepchild, illegitimate child of record of female member, or illegitimate child of male member whose paternity has been judicially determined or voluntarily acknowledged | 1 | 2 | 3 | 4 | 4.
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 3, 7 | 7 | 7
Father, Mother, Father-in-Law, Mother-in-Law, Stepparent, or Parent by Adoption | No | 2, 3 | 3 | 4 | 4
Notes:
1. Yes, if the former member is age 60 or over and in receipt of retired pay for non-regular service; and is:
a. Not entitled to Medicare Part A hospital insurance through the SSA, or
b. Entitled to Medicare Part A hospital insurance and enrolled in Medicare Part B medical insurance or qualified as an exception in accordance with section 706 of Public Law 111-84, “National Defense Authorization Act for Fiscal Year 2010.”
2. Yes, if former member is age 60 or over and in receipt of retired pay for non-regular service.
3. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408(h).
4. Yes, if dependent on an authorized sponsor for over 50 percent support, or children of a sponsor residing in the household of a former spouse (20-20-20 or 10-20-10).
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of military service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.

§ 161.13 Benefits for retired members of the uniformed services.

(a) This section describes the benefits for retired uniformed service members entitled to retired pay and their eligible dependents. Retired uniformed service members are entitled to retired pay and eligible for benefits administered by the uniformed services in accordance with 10 U.S.C., DoD Instruction 1330.17, DoD Instruction 1330.21, DoD Instruction 1015.10, and TRICARE Policy Manual 6010.57-M (available at http://www.tricare.mil/contracting/healthcare/t3manuals/change2/tp08/c8s9_1.pdf). This includes voluntary, temporary, and permanent disability retired list (PDRL) retirees. Benefits for former members and their eligible dependents are described in § 161.12.

(1) Retired Members. Benefits for voluntary retired members and PDRL retirees are shown in Table 7 to part 161. Benefits for temporary disability retired list (TDRL) retirees are shown in Table 8 to part 161.

Table 7 to Part 161—Benefits for Voluntary Retired Members and PDRL Members
| CHC | DC | C | MWR | E
Member (Self) | 1 | Yes | Yes | Yes | Yes.
Notes:
1. Yes, if:
a. Not entitled to Medicare Part A hospital insurance through the SSA or
b. Entitled to Medicare Part A hospital insurance and enrolled in Medicare Part B medical insurance or qualified as an exception in accordance with section 706 of Public Law 111-84.

Table 8 to Part 161—Benefits for TDRL Members
| CHC | DC | C | MWR | E
Member (Self) | 1, 2 | Yes | Yes | Yes | Yes.
Notes:
1. If not removed sooner, retention of the service member on the TDRL shall not exceed a period of 5 years. The uniformed service member must be returned to active duty, separated with or without severance pay, or retired as PDRL in accordance with 10 U.S.C. 1210.
2. Yes, if:
a. Not entitled to Medicare Part A hospital insurance through the SSA or
b. Entitled to Medicare Part A hospital insurance and enrolled in Medicare Part B medical insurance or qualified as an exception in accordance with section 706 of Public Law 111-84.

(2) Retired Reserve. Benefits for members of the Retired Reserve who have attained 20 creditable years of service, have not reached the age of 60, and are not in receipt of retired pay are shown in Table 9. When a Retired Reserve member is ordered to active duty greater than 30 days, their benefits will reflect what is shown in Table 10 to part 161. When a Retired Reserve member is in receipt of retired pay under age 60 (non-regular Service retirement), or upon reaching age 60, their benefits will reflect what is shown in Table 11 to part 161.

Table 9 to Part 161—Benefits for Retired Reserve Members
| CHC | DC | C | MWR | E
Member (Self) | No | No | Yes | Yes | Yes.

Table 10 to Part 161—Benefits for Retired Reserve Members Ordered to Active Duty Greater Than 30 Days
| CHC | DC | C | MWR | E
Member (Self) | No | Yes | Yes | Yes | Yes.

Table 11 to Part 161—Benefits for Non-Regular Service Retirement for Qualifying Ready Reserve Members
| CHC | DC | C | MWR | E
Member (Self) | 1 | 1 | Yes | Yes | Yes.
Notes:
1. Yes, if age 60 or over, and:
a. Applied for or in receipt of retired pay in accordance with 10 U.S.C. 1074. If in receipt of retired pay in accordance with the provisions of 10 U.S.C. 12731, after the date of the enactment of section 647 of Public Law 110-181, “National Defense Authorization Act for Fiscal Year 2008,” the member must be age 60 to qualify for CHC and DC.
b. Not entitled to Medicare Part A hospital insurance through the SSA, or
c. Entitled to Medicare Part A hospital insurance and enrolled in Medicare Part B medical insurance or qualified as an exception in accordance with section 706 of Public Law 111-84.

(3) Dependents. Dependents of retired uniformed services members entitled to retired pay, including TDRL and PDRL, non-regular Service retirees not yet age 60 not in receipt of retired pay; non-regular Service retirees entitled to retired pay in accordance with the provisions of 10 U.S.C. 12731 after the date of the enactment of section 647 of Public Law 110-181; and non-regular Service retirees, age 60 or over, in receipt of retired pay for non-regular service in accordance with 10 U.S.C. chapter 1223, are eligible for benefits as shown in Table 12 to part 161.

Table 12 to Part 161—Benefits for Dependents of Retired Uniformed Services Members
| CHC | DC | C | MWR | E
Lawful Spouse | 1 | 2 | Yes | Yes | Yes.
Children, Unmarried, Under 21 Years:
Legitimate, adopted, stepchild, illegitimate child of record of female member, or illegitimate child of male member whose paternity has been judicially determined or voluntarily acknowledged | 1 | 2 | 3 | 4 | 4.
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 3, 7 | 7 | 7.
Father, Mother, Father-in-Law, Mother-in-Law, Stepparent, or Parent by Adoption | No | 2, 3 | 3 | 4 | 4.
Notes:
1. Yes, if the sponsor is:
a. Retired (as shown in Tables 7 and 8) and the dependent is not entitled to Medicare Part A hospital insurance through the SSA; or if entitled to Medicare Part A hospital insurance and enrolled in Medicare Part B medical insurance or qualified as an exception in accordance with section 706 of Public Law 111-84;
b. A National Guard or Reserve member on a period of active duty in excess of 30 days (as shown in Table 10). When the ordered to active duty period is greater than 30 days the eligibility for CHC and DC for the eligible dependents begins on the first day of the active duty period; or
c. A medically eligible non-regular Service Reserve Retiree, age 60 or over, as shown in Table 11.
2. Yes, if the sponsor is:
a. Retired (as shown in Tables 7 and 8);
b. A National Guard or Reserve member on a period of active duty in excess of 30 days (as shown in Table 10). When the ordered to active duty period is greater than 30 days the eligibility for CHC and DC for the eligible dependents begins on the first day of the active duty period; or
c. A medically eligible non-regular Service Reserve Retiree, age 60 or over, as seen in Table 11.
3. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408(h).
4. Yes, if dependent on an authorized sponsor for over 50 percent of his or her support or children of a sponsor residing in the household of a former spouse (20-20-20 or 10-20-10).
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of military service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.

§ 161.14 Benefits for MOH recipients.

(a) This section describes the benefits for MOH recipients and their dependents who are authorized pursuant to section 706 of Public Law 106-398, “National Defense Authorization Act for Fiscal Year 2001” and who are not otherwise entitled to military medical and dental care. Section 706 of Public Law 106-398 authorized MOH recipients not otherwise entitled to military medical and dental care and their dependents to be given care in the same manner that such care is provided to former uniformed service members who are entitled to military retired pay and the dependents of those former members. Eligibility for the benefits described in Table 13 to part 161 begins on the date of award of the MOH but no earlier than October 30, 2000.

Table 13 to Part 161—Benefits for MOH Recipients and Dependents
| CHC | DC | C | MWR | E
Self | 1 | 2 | Yes | Yes | Yes.
Lawful Spouse | 1 | 2 | Yes | Yes | Yes.
Children, Unmarried, Under 21 Years:
Legitimate, adopted, stepchild, illegitimate child of record of female member, or illegitimate child of male member whose paternity has been judicially determined or voluntarily acknowledged | 1 | 2 | 3 | 4 | 4.
Ward | 1, 5 | 2, 5 | 5 | 5 | 5.
Pre-adoptive Child | 1, 6 | 2, 6 | 6 | 6 | 6.
Foster Child | No | No | 3 | 3 | 3.
Children, Unmarried, 21 Years and Over | 1, 7 | 2, 7 | 3, 7 | 7 | 7.
Father, Mother, Father-in-Law, Mother-in-Law, Stepparent, or Parent by Adoption | No | 2, 3 | 3 | 4 | 4.
Notes:
1. Yes, if the sponsor is a MOH recipient and is not otherwise entitled to medical care as of or after October 30, 2000 pursuant to section 706 of Public Law 106-398 and:
a. Is not entitled to Medicare Part A hospital insurance through the SSA or
b. Is entitled to Medicare Part A hospital insurance and enrolled in Medicare Part B medical insurance or qualified as an exception in accordance with section 706 of Public Law 111-84.
2. Yes, if the sponsor is a MOH recipient and is not otherwise entitled to medical care as of or after October 30, 2000 pursuant to section 706 of Public Law 106-398.
3. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408.
4. Yes, if dependent on an authorized sponsor for over 50 percent of his or her support or children of a sponsor residing in the household of a former spouse (20-20-20 or 10-20-10).
5. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of military service or to receive institutional care as a result of a disability or incapacitation or under such other circumstances as the administering Secretary may, by regulation, prescribe.
6. Yes, if, for determinations of dependency made on or after October 5, 1994, placed in the home of the member or former member by a placement agency (recognized by the Secretary of Defense) or by another source authorized by State or local law to provide adoption placement, in anticipation of the legal adoption by the member or former member.
7. Yes, if the child:
a. Has not attained the age of 23, is enrolled in a full-time course of study at an institution of higher learning approved by the administering Secretary, and is dependent on the former member for over 50 percent of the child's support or
b. Is incapable of self-support because of a mental or physical incapacity that existed before age 21, or occurred before the age of 23 while a full-time student, while a dependent of a member or former member, and is dependent on the member or former member for over 50 percent of the child's support.

§ 161.15 Benefits for Disabled American Veterans (DAV).

(a) This section describes the benefits for DAVs rated as 100 percent disabled or 100 percent unemployable by the VA and their eligible dependents. Neither DAVs nor their eligible dependents receive CHC or DC benefits from the DoD based on their affiliation. Honorably discharged veterans rated by the VA as 100 percent disabled or 100 percent unemployable from a uniformed service-connected injury or disease and certified by VA, and their dependents, are eligible for benefits as shown in Table 14 to part 161.

Table 14 to Part 161—Benefits for 100 Percent DAVs and Dependents
| CHC | DC | C | MWR | E
Self | No | No | Yes | Yes | Yes.
Lawful Spouse | No | No | Yes | Yes | Yes.
Children, Unmarried, Under 21 Years:
Legitimate, adopted, stepchild, illegitimate child of record of female member, or illegitimate child of male member whose paternity has been judicially determined or voluntarily acknowledged | No | No | 1 | 2 | 2.
Pre-adoptive Child | No | No | 4 | 4 | 4.
Children, Unmarried, 21 Years and Over | No | No | 1, 5 | 5 | 5.
Father, Mother, Father-in-Law, Mother-in-Law, Stepparent, or Parent-by-Adoption | No | No | 1 | 2 | 2.
Notes:
1. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges. Exception: Children who reside with a former spouse meeting requirements for commissary privileges based on 20 years of marriage during a period the member or retired member performed 20 years of service, or the dependent is entitled to privileges as a result of sponsor abuse pursuant to 10 U.S.C. 1408.
2. Yes, if dependent on an authorized sponsor for over 50 percent of his or her support or children of a sponsor residing in the household of a former spouse (20-20-20 or 10-20-10).
3. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of military service or to receive institutional care as a result of a disability or incapacitation or under such other circumstances as the administering Secretary may, by regulation, prescribe.
4. Yes, if, for determinations of dependency made on or after October 5, 1994, placed in the home of the member or former member by a placement agency (recognized by the Secretary of Defense) or by another source authorized by State or local law to provide adoption placement, in anticipation of the legal adoption by the member or former member.
5. Yes, if the child:
a. Has not attained the age of 23, is enrolled in a full-time course of study at an institution of higher learning approved by the administering Secretary, and is dependent on the former member for over 50 percent of the child's support or
b. Is incapable of self-support because of a mental or physical incapacity that existed before age 21, or occurred before the age of 23 while a full-time student, while a dependent of a member or former member, and is dependent on the member or former member for over 50 percent of the child's support.

§ 161.16 Benefits for transitional health care members and dependents.

This section shows the benefits for THC members and their eligible dependents. THC (formerly the TAMP) was instituted in section 502 of Public Law 101-510, “Department of Defense Appropriations Bill Fiscal Year 1991” effective October 1, 1990. Section 706 of Public Law 108-375, “National Defense Authorization Act of for Fiscal Year 2005” made the THC program permanent and made the medical eligibility 180 days for all eligible uniformed services members. Section 651 of Public Law 110-181 extended 2 years' commissary and exchange benefits to THC members. Section 734 of Public Law 110-417, “National Defense Authorization Act for Fiscal Year 2009” extended THC benefits to uniformed service members separating from active duty who agree to become members of the SelRes of the Ready Reserve of a reserve component. Uniformed service members separated as uncharacterized entry-level separations do not qualify for THC.

Table 15 to Part 161—Benefits for THC Members and Dependents
| CHC | DC | C | MWR | E
THC Member (Self) | 1 | 1 | 2, 3, 4 | 2, 3, 4 | 2, 3, 4.
Lawful Spouse | 1 | 1 | 2, 3, 4 | 2, 3, 4 | 2, 3, 4.
Children, Unmarried, Under 21 Years:
Legitimate, adopted, stepchild, illegitimate child of record of female member, or illegitimate child of male member whose paternity has been judicially determined or voluntarily acknowledged | 1 | 1 | 2, 3, 4, 5 | 2, 3, 4, 6 | 2, 3, 4, 6.
Ward | 1, 7 | 1, 7 | 2, 3, 4, 7 | 2, 3, 4, 7 | 2, 3, 4, 7.
Pre-adoptive Child | 1, 8 | 1, 8 | 2, 3, 4, 8 | 2, 3, 4, 8 | 2, 3, 4, 8.
Foster Child | No | No | 2, 3, 4, 5 | 2, 3, 4, 5 | 2, 3, 4, 5.
Children, Unmarried, 21 Years and Over | 1, 9 | 1, 9 | 5, 9 | 9 | 9.
Father, Mother, Father-in-Law, Mother-in-Law, Stepparent, or Parent-by-Adoption | No | 1, 9 | 2, 3, 4, 5 | 2, 3, 4, 6 | 2, 3, 4, 6.
Notes:
1. Yes, medical entitlement for 180 days beginning on the date after the member separated from the qualifying active duty period. There is no exception based on entitlement to Medicare Part A. The THC eligible sponsor and eligible dependents receive the medical benefits as if they were active duty eligible dependents.
2. No, if the member separated on or after January 1, 2001 but before October 1, 2007; or if separated in accordance with 10 U.S.C. 1145(a)(2)(F).
3. No, if the member separated from active duty to join the SelRes or the Ready Reserve of a Reserve Component.
4. Yes, if the member was separated during the period beginning on October 1, 1990, through December 31, 2001, or after October 1, 2007. Entitlement shall be for 2 years, beginning on the date the member separated.
5. Yes, if a member of a household maintained by or for an authorized sponsor and dependent on that sponsor for over 50 percent of his or her support. Children residing in the household of a separated spouse continue to be eligible for commissary privileges until there is a final divorce decree. In the case of a divorce, children residing in the household of a former spouse are not considered to be members of the authorized sponsor's household for commissary privileges, except children who reside with a former spouse meeting requirements for commissary privileges based on 20 years of marriage during a period the member or retired member performed 20 years of service.
6. Yes, if dependent on the authorized sponsor for over 50 percent of his or her support or children of a sponsor residing in the household of a former spouse (20-20-20 or 10-20-10).
7. Yes, if, for determination of dependency made on or after July 1, 1994, placed in the legal custody of the member or former member as a result of a court of competent jurisdiction in the United States (or possession of the United States) for a period of at least 12 consecutive months; and:
a. Is dependent on the member for over 50 percent support.
b. Resides with the member or former member unless separated by the necessity of military service or to receive institutional care as a result of a disability or incapacitation or under such other circumstances as the administering Secretary may, by regulation, prescribe.
8. Yes, if, for determinations of dependency made on or after October 5, 1994, placed in the home of the member or former member by a placement agency (recognized by the Secretary of Defense) or by another source authorized by State or local law to provide adoption placement, in anticipation of the legal adoption by the member or former member.
9. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.

§ 161.17 Benefits for surviving dependents.

(a) This section describes the benefits for surviving dependents of active duty deceased uniformed services members, deceased National Guard and Reserve service members, deceased MOH recipients, and deceased 100 percent DAV.

(1) Surviving dependents of active duty deceased members. Surviving dependents of members who died while on active duty under orders that specified a period of more than 30 days or members who died while in a retired with pay status are eligible for benefits as shown in Table 16 to part 161.

Table 16 to Part 161—Benefits for Surviving Dependents of Active Duty Deceased Members
| CHC | DC | C | MWR | E
Widow or widower:
Unremarried | 1 | Yes | Yes | Yes | Yes.
Remarried | No | No | No | No | No.
Unmarried | No | No | Yes | Yes | Yes.
Children, Unmarried, or Under 21 Years (Including Orphans):
Legitimate, adopted, stepchild, illegitimate child of record of female member, or illegitimate child of male member whose paternity has been judicially determined or voluntarily acknowledged | 1 | Yes | 2 | 3 | 3.
Ward | 1, 4 | 1, 4 | 4 | 4 | 4.
Pre-adoptive Child | 1, 5 | 1, 5 | 5 | 5 | 5.
Foster Child | No | No | 2 | 2 | 2.
Children, Unmarried, 21 Years and Over | 1, 6 | 6 | 2, 6 | 6 | 6.
Father, Mother, Father-in-Law, Mother-in-Law, Stepparent, or Parent by Adoption | No | 2 | 2 | 3 | 3.
Notes:
1. Yes, if the sponsor died on active duty (for dependents of National Guard or Reserve members or Retired Reserve members the period of active duty must be in excess of 30 days in order to qualify for the benefits in this table) and:
a. If claims are filed less than 3 years from the date of death, there is no Medicare exception for the widow. After 3 years from the date of death, the widow is eligible if,
(1) Not entitled to Medicare Part A hospital insurance through the SSA.
(2) Entitled to Medicare Part A hospital insurance and enrolled in Medicare Part B medical insurance or qualified as an exception in accordance with section 706 of Public Law 111-84.
b. Yes, for children regardless of the number of years from the date of death or entitlement to Medicare they are entitled.
2. Yes, if at the time of the sponsor's death, the person was living in a home provided by or for an authorized sponsor and was dependent on the sponsor for over 50 percent of his or her support. Children residing in the household of the authorized sponsor at the time of death are entitled to commissary privileges.
3. Yes, if dependent on an authorized sponsor for over 50 percent of his or her support at the time of the sponsor's death or children of a sponsor residing in the household of a former spouse (20-20-20 or 10-20-10).
4. Yes, if, for determinations of dependency made on or after July 1, 1994, and prior to the death of the member, the child had been placed in the legal custody of the member as a result of a court of competent jurisdiction in the United States (or possession of the United States) for a period of at least 12 consecutive months; and was at the time of the sponsor's death:
a. Dependent on the member for over 50 percent support.
b. Residing with the member unless separated by the necessity of military service or to receive institutional care as a result of a disability or incapacitation or under such other circumstances as the administering Secretary may, by regulation, prescribe.
5. Yes, if, for determinations of dependency made on or after October 5, 1994, and prior to the death of the member, the child had been placed in the home of the member by a placement agency (recognized by the Secretary of Defense) or by another source authorized by State or local law to provide adoption placement, in anticipation of the legal adoption by the member.
6. Yes, if the child:
a. Has not attained the age of 23, is enrolled in a full-time course of study at an institution of higher learning approved by the administering Secretary, and is or was at the time of the member's death dependent on the member for over 50 percent of the child's support; or
b. Is incapable of self-support because of a mental or physical incapacity that existed before age 21, or occurred before the age of 23 while a full-time student, while a dependent of a member or former member and is or was at the time of the member's death dependent on the member for over 50 percent of the child's support.

(2) Surviving dependents of deceased National Guard and Reserve members not on an active duty period greater than 30 days. The surviving dependents of National Guard and Reserve Service members are eligible for the benefits shown in Table 17 to part 161 if:

(i) The National Guard or Reserve member died from an injury or illness incurred or aggravated while on active duty for a period of 30 days or less, on active duty for training, or on inactive duty training, or while traveling to or from the place at which the member was to perform, or performed, such active duty, active duty for training, or inactive duty training pursuant to 10 U.S.C. 1076 and 1086(c)(2) and if death occurred on or after October 1, 1985; or

(ii) The National Guard or Reserve member died from an injury, illness, or disease incurred or aggravated while performing, or while traveling to or from performing active duty for a period of 30 days or less, or active duty for training, or inactive duty training, or while performing service on funeral honors in accordance with 10 U.S.C. 1074a and if death occurred on or after November 15, 1986.

Table 17 to Part 161—Benefits for Surviving Dependents of Deceased National Guard and Reserve Members Not On Active Duty for a Period Greater Than 30 Days
| CHC | DC | C | MWR | E
Widow or Widower:
Unremarried | 1, 2 | 2 | 2 | 2 | 2.
Remarried | No | No | No | No | No.
Unmarried | No | No | 2 | 2 | 2.
Children, Unmarried, Under 21 Years (Including Orphans): | 1, 2 | 2 | 2, 3 | 2, 4 | 2, 4.
Legitimate, adopted, stepchild, illegitimate child of record of female member, or illegitimate child of male member whose paternity has been judicially determined or voluntarily acknowledged
Ward | 1, 2, 5 | 2, 5 | 2, 5 | 2, 5 | 2, 5.
Pre-adoptive Child | 1, 2, 6 | 2, 6 | 2, 6 | 2, 6 | 2. 6.
Foster Child | No | No | 2, 3 | 2, 3 | 2, 3.
Children, Unmarried, 21 Years and Over | 1, 2, 7 | 2, 7 | 2, 3, 7 | 2, 7 | 2, 7.
Father, Mother, Father-in-Law, Mother-in-Law, Stepparent, or Parent by Adoption | No | 2, 3 | 2, 3 | 2, 4 | 2, 4.
Notes:
1. Yes, if:
a. Not entitled to Medicare Part A hospital insurance through the SSA.
b. Entitled to Medicare Part A hospital insurance and enrolled in Medicare Part B medical insurance or qualified as an exception in accordance with section 706 of Public Law 111-84.
2. Yes, only if death occurred on or after 1 October 1985 in accordance with the provisions of 10 U.S.C. 1076, or on or after November 15, 1986 in accordance with the provisions of 10 U.S.C. 1074a.
3. Yes, if at the time of the sponsor's death the person was living in a home provided by or for an authorized sponsor and was dependent on the sponsor for over 50 percent of his or her support. Children residing in the household of the authorized sponsor at the time of death, but not the household of the sponsor's former spouse, are entitled to commissary privileges.
4. Yes, if dependent on an authorized sponsor for over 50 percent of his or her support at the time of the sponsor's death or children of a sponsor residing in the household of a former spouse (20-20-20 or 10-20-10).
5. Yes, if, for determinations of dependency made on or after July 1, 1994, and prior to the death of the member, the child had been placed in the legal custody of the member as a result of a court of competent jurisdiction in the United States (or possession of the United States) for a period of at least 12 consecutive months and was at the time of the sponsor's death:
a. Dependent on the member for over 50 percent support.
b. Residing with the member unless separated by the necessity of military service or to receive institutional care as a result of a disability or incapacitation or under such other circumstances as the administering Secretary may, by regulation, prescribe.
6. Yes, if, for determinations of dependency made on or after October 5, 1994, and prior to the death of the member, the child had been placed in the home of the member by a placement agency (recognized by the Secretary of Defense) or by another source authorized by State or local law to provide adoption placement, in anticipation of the legal adoption.
7. Yes, if the child:
a. Has not attained the age of 23, is enrolled in a full-time course of study at an institution of higher learning approved by the administering Secretary, and is or was at the time of the member's death dependent on the member for over 50 percent of the child's support; or
b. Is incapable of self-support because of a mental or physical incapacity that existed before age 21, or occurred before the age of 23 while a full-time student, while a dependent of a member and is or was at the time of the member's or former member's death dependent on the member for over 50 percent of the child's support.

(3) Surviving dependents of deceased National Guard and Reserve members in receipt of their notice of eligibility (NOE), Retired Reserve members not yet age 60, and former members not in receipt of retired pay. The surviving dependents of National Guard and Reserve members who have died before the age of 60 are eligible for the benefits shown in Table 18 to part 161 if the deceased sponsor was:

(i) A Reserve member who had earned 20 qualifying years for retirement and received their NOE for retired pay at age 60, but HAD NOT transferred to the Retired Reserve.

(ii) A Retired Reserve member eligible for pay at age 60, not yet age 60.

(iii) A former member who had met time-in-service requirements.

Table 18 to Part 161—Benefits for Surviving Dependents of National Guard and Reserve Members Who Have Died Before Age 60
| CHC | DC | C | MWR | E
Widow or Widower:
Unremarried | 1, 2 | 1 | Yes, 8 | Yes, 8 | Yes, 8.
Remarried | No | No | No | No | No.
Unmarried | No | No | Yes, 8 | Yes, 8 | Yes, 8.
Children, Unmarried, Under 21 Years (Including Orphans):
Legitimate, adopted, stepchild, illegitimate child of record of female member, or illegitimate child of male member whose paternity has been judicially determined or voluntarily acknowledged | 1, 2 | 1 | 3,8 | 4,8 | 4,8.
Ward | 1, 2, 5 | 1, 5 | 3, 5, 8 | 4, 5, 8 | 4, 5, 8.
Pre-adoptive Child | 1, 2, 6 | 1, 6 | 3, 6, 8 | 4, 6, 8 | 4, 6, 8.
Foster Child | No | No | 3 | 3 | 3.
Children, Unmarried, 21 Years and Over | 1, 2, 7 | 1, 7 | 3, 7, 8 | 4, 7, 8 | 4, 7, 8.
Father, Mother, Father-in-Law, Mother-in-Law, Stepparent, or Parent by Adoption | No | 3, 8 | 3, 8 | 3, 8 | 3, 8.
Notes:
1. Yes, on or after the date the member would have become age 60.
2. Yes, if:
a. Not entitled to Medicare Part A hospital insurance through the SSA or
b. Entitled to Medicare Part A hospital insurance and enrolled in Medicare Part B medical insurance or qualified as an exception in accordance with section 706 of Public Law 111-84.
3. Yes, if at the time of the sponsor's death, the person was living in a home provided by or for an authorized sponsor and was dependent on the sponsor for over 50 percent of his or her support. Children residing in the household of the authorized sponsor at the time of death, but not the household of the sponsor's former spouse, are entitled to commissary privileges. Medical care is only authorized on or after the date the uniformed service member would have become age 60.
4. Yes, if dependent on an authorized sponsor for over 50 percent of his or her support at the time of the sponsor's death or children of a sponsor residing in the household of a former spouse (20-20-20 or 10-20-10).
5. Yes, if, for determinations of dependency made on or after July 1, 1994, and prior to the death of the member, the child had been placed in the legal custody of the member or former member as a result of a court of competent jurisdiction in the United States (or possession of the United States) for a period of at least 12 consecutive months; and was at the time of the sponsor's death:
a. Dependent on the member for over 50 percent support.
b. Residing with the member or former member unless separated by the necessity of military service or to receive institutional care as a result of a disibility or incapacitation or under such other circumstances as the administering Secretary may, by regulation, prescribe.
6. Yes, if, for determinations of dependency made on or after October 5, 1994, and prior to the death of the member, the child had been placed in the home of the member or former member by a placement agency (recognized by the Secretary of Defense) or by another source authorized by State or local law to provide adoption placement, in anticipation of the legal adoption.
7. Yes, if the child:
a. Has not attained the age of 23, is enrolled in a full-time course of study at an institution of higher learning approved by the administering Secretary, and is or was at the time of the member's or former member's death dependent on the former member for over 50 percent of the child's support; or
b. Is incapable of self-support because of a mental or physical incapacity that existed before age 21, or occurred before the age of 23 while a full-time student, while a dependent of a member or former member and is, or was at the time of the member's or former member's death, dependent on the member or former member for over 50 percent of the child's support.
8. Eligible dependents of deceased former members who died prior to age 60 receive commissary, MWR, and exchange benefits. If the former member dies after applying for pay upon reaching age 60 then the eligible dependents are entitled to medical care only in accordance with notes 1 and 2 as applicable.

(4) Surviving dependents of deceased uniformed services retirees or deceased MOH recipients. The surviving dependents of deceased uniformed services retirees or deceased MOH recipients are eligible for the benefits shown in Table 19 to part 161.

Table 19 to Part 161—Benefits for Surviving Dependents of Deceased Uniformed Services Retirees and Deceased MOH Recipients
| CHC | DC | C | MWR | E
Widow or Widower:
Unremarried | 1, 2, 3 | 3, 4 | Yes | Yes | Yes.
Remarried | No | No | No | No | No.
Unmarried | No | No | Yes | Yes | Yes.
Children, Unmarried, Under 21 Years:
Legitimate, adopted, stepchild, illegitimate child of member, illegitimate child of spouse | 1, 2, 3 | 3, 5 | 6 | 4 | 4.
Ward | 1, 2, 3, 7 | 3, 4, 7 | 7 | 7 | 7.
Pre-adoptive Child | 1, 2, 3, 8 | 3, 4, 8 | 8 | 8 | 8.
Foster Child | No | No | 6 | 6 | 6.
Children, Unmarried, 21 Years and Over | 1, 2, 3, 9 | 3, 4, 9 | 6, 9 | 9 | 9.
Father, Mother, Father-in-Law, Mother-in-Law, Stepparent, or Parent by Adoption | No | No | 6 | 4 | 4.
Notes:
1. Yes, if the deceased uniformed service member was a retired uniformed service member entitled to retired pay, including TDRL or PDRL, or a non-regular Service retiree, age 60 or over, in receipt of retired pay, and if the person is:
a. Not entitled to Medicare Part A hospital insurance through the SSA; or,
b. Entitled to Medicare Part A hospital insurance and enrolled in Medicare Part B medical insurance or qualified as an exception in accordance with section 706 of Public Law 111-84.
2. Yes, if the deceased MOH recipient was not otherwise entitled to medical care as of, or after October 30, 2000 in accordance with section 706 of Public Law 106-398 and if the person is:
a. Not entitled to Medicare Part A hospital insurance through the SSA; or,
b. Entitled to Medicare Part A, hospital insurance and enrolled in Medicare Part B medical insurance or qualified as an exception in accordance with section 706 of Public Law 111-84.
3. No, if the deceased uniformed service member was a non-regular Service Retiree in accordance with the provision of 10 U.S.C. 12731 after the enactment of Public Law 110-181, sections 647 and 1106. The eligible surviving dependents will become eligible for CHC and DC on the anniversary of the 60th birthday of the deceased uniformed service member. Eligibility for CHC also requires that the person is:
a. Not entitled to Medicare Part A hospital insurance through the SSA; or,
b. Entitled to Medicare Part A hospital insurance and enrolled in Medicare Part B medical insurance or qualified as an exception in accordance with section 706 of Public Law 111-84.
4. Yes, if dependent on an authorized sponsor for over 50 percent of his or her support at the time of the sponsor's death or children of a sponsor residing in the household of a former spouse (20-20-20 or 10-20-10).
5. Yes, if the deceased was a retired uniformed services member entitled to retired pay, including TDRL or PDRL, or a non-regular Service retiree, age 60 or over, in receipt of retired pay, or a deceased MOH recipient not otherwise entitled to medical care as of or after, October 30, 2000, or a deceased non-regular Service retiree entitled in accordance with the provisions of 10 U.S.C. 12731 after the enactment of Public Law 110-181, sections 647 and 1106 on the anniversary of the 60th birthday of the deceased uniformed Service member.
6. Yes, if a member of a household maintained by or for an authorized sponsor and dependent on that sponsor for over 50 percent of his or her support. Children residing in the household of a separated spouse continue to be eligible for commissary privileges until there is a final divorce decree. In the case of a divorce, children residing in the household of a former spouse are not considered to be members of the authorized sponsor's household for commissary privileges.
7. Yes, if, for determinations of dependency made on or after July 1, 1994, and prior to the death of the member, the child had been placed in the legal custody of the member or former member as a result of a court of competent jurisdiction in the United States (or possession of the United States) for a period of at least 12 consecutive months; and was at the time of the sponsor's death:
a. Dependent on the member for over 50 percent support.
b. Residing with the member or former member unless separated by the necessity of military service or to receive institutional care as a result of a disability or incapacitation or under such other circumstances as the administering Secretary may, by regulation, prescribe.
8. Yes, if, for determinations of dependency made on or after October 5, 1994, and prior to the death of the member, the child had been placed in the home of the member or former member by a placement agency (recognized by the Secretary of Defense) or by another source authorized by State or local law to provide adoption placement, in anticipation of the legal adoption.
9. Yes, if the child:
a. Has not attained the age of 23, is enrolled in a full-time course of study at an institution of higher learning approved by the administering Secretary, and is or was at the time of the member's or former member's death dependent on the former member for over 50 percent of the child's support; or
b. Is incapable of self-support because of a mental or physical incapacity that existed before age 21, or occurred before the age of 23 while a full-time student, while a dependent of a member or former member and is or was at the time of the member's or former member's death dependent on the member or former member for over 50 percent of the child's support.

(5) Surviving Dependents of 100 Percent DAVs. Surviving dependents of honorably discharged veterans rated as 100 percent disabled or 100 percent unemployable by the VA from a uniformed services-connected injury or disease at the time of his or her death are eligible for benefits as shown in Table 20 to part 161.

Table 20 to Part 161—Benefits for Surviving Dependents of 100 Percent DAVs
| CHC | DC | C | MWR | E
Widow or Widower: (DoD Beneficiary):
Unremarried | No | No | Yes | Yes | Yes.
Remarried | No | No | No | No | No.
Unmarried | No | No | Yes | Yes | Yes.
Children, Unmarried, Under 21 Years:
Legitimate, adopted, stepchild, illegitimate child of member, illegitimate child of spouse | No | No | 1 | 4 | 4.
Ward | No | No | 2 | 2 | 2.
Pre-adoptive Child | No | No | 3 | 3 | 3.
Children, Unmarried, 21 Years and Over | No | No | 1, 5 | 1, 5 | 1, 5.
Father, Mother, Father-in-Law, Mother-in-Law, Stepparent, or Parent by Adoption | No | No | 1 | 4 | 4.
Notes:
1. Yes, if at the time of the sponsor's death, the person was living in a home provided by or for an authorized sponsor and was dependent on the sponsor for over 50 percent of his or her support. Children residing in the household of the authorized sponsor at the time of death are entitled to commissary privileges.
2. Yes, if, for determination of dependency made on or after July 1, 1994, was placed in the legal custody of the member or former member as a result of a court of competent jurisdiction in the United States (or possession of the United States) for a period of at least 12 consecutive months; and was at the time of the sponsor's death:
a. Dependent on the member for over 50 percent support.
b. Residing with the member or former member unless separated by the necessity of military service or to receive institutional care as a result of a disability or incapacitation or under such other circumstances as the administering Secretary may, by regulation, prescribe.
3. Yes, if, for determinations of dependency made on or after July 1, 1994, and prior to the death of the member, the child had been placed in the home of the member or former member by a placement agency (recognized by the Secretary of Defense) or by another source authorized by State or local law to provide adoption placement, in anticipation of the legal adoption.
4. Yes, if dependent on an authorized sponsor for over 50 percent of his or her support at the time of the sponsor's death or children of a sponsor residing in the household of a former spouse (20-20-20 or 10-20-10).
5. Yes, if the child:
a. Has not attained the age of 23, is enrolled in a full-time course of study at an institution of higher learning approved by the administering Secretary, and is or was at the time of the member's or former member's death, dependent on the former member for over 50 percent of the child's support; or
b. Is incapable of self-support because of a mental or physical incapacity that existed before age 21, or occurred before the age of 23 while a full-time student, while a dependent of a member or former member and is, or was at the time of the member's or former member's death, dependent on the member or former member for over 50 percent of the child's support.

§ 161.18 Benefits for abused dependents.

(a) Abused dependents of active duty uniformed services members entitled to retired pay based on 20 or more years of service who, on or after October, 23, 1992, while a member, have their eligibility to receive retired pay terminated as a result of misconduct involving the abuse of the spouse or dependent child pursuant to 10 U.S.C. 1408(h), are eligible for benefits as shown in Table 21. For the purposes of these benefits the eligible spouse or child may not reside in the household of the sponsor. See § 161.19 for additional information on abused dependents under the 10/20/10 former spouse rule.

Table 21 to Part 161—Benefits for Abused Dependents of Retirement Eligible Uniformed Services Members
| CHC | DC | C | MWR | E
Lawful Spouse | 1, 2, 6 | 2, 6 | 2, 6 | 2, 6 | 2, 6.
Children, Unmarried, Under 18 Years:
Legitimate, adopted, stepchild, pre-adoptive | 1, 3 | 3 | 4 | 4 | 4.
Children, Unmarried, 18 Years and Over (If entitled above) | 1, 4, 5 | 4, 5 | 4, 5 | 4, 5 | 4, 5.
Notes:
1. Yes, if:
a. Not entitled to Medicare Part A hospital insurance through the SSA.
b. Entitled to Medicare Part A hospital insurance and enrolled in Medicare Part B medical insurance or qualified as an exception in accordance with section 706 of Public Law 111-84.
2. Yes, if a court order provides for an annuity for the spouse.
3. Yes, if a member of the household where the abuse occurred.
4. Yes, if a member of the household where the abuse occurred and dependent on that sponsor for over 50 percent of his or her support at the time the abuse occurred.
5. Yes, if the child:
a. Is older than 18 years old and is enrolled in a full-time course of study at an institution of higher learning approved by the administering Secretary; or
b. Is incapable of self-support because of a mental or physical incapacity that existed before age 18, or occurred before the age of 23 while a full-time student.
6. The spouse must have been married to the uniformed service member for at least 10 years, the uniformed service member must have completed 20 creditable years for retired pay, and they must have been married at least 10 years during the 20 years of creditable service (see § 161.19). The uniformed services shall prescribe specific procedures to verify the eligibility of an applicant.

(b) Dependents of active duty uniformed service members (who have served for a continuous period greater than 30 days) not entitled to retired pay who have received a dishonorable or bad-conduct discharge, dismissal from a uniformed service as a result of a court martial conviction for an offense involving physical or emotional abuse of the spouse or child, or was administratively discharged as a result of such an offense, separated on or after November 30, 1993, are eligible for transitional privileges in accordance with DoD Instruction 1342.24, “Transitional Compensation for Abused Dependents” (available at http://www.dtic.mil/whs/directives/corres/pdf/134224p.pdf). For the purposes of these benefits the eligible spouse or child may not reside in the household of the sponsor. A maximum of up to 36 months of medical benefits can be granted by the uniformed services to the transitional compensation dependent.

Table 22 to Part 161—Benefits for Abused Dependents of Non-Retirement Eligible Uniformed Services Members
| CHC | DC | C | MWR | E
Lawful Spouse | 1, 2 | 2 | 2 | 2 | 2.
Children, Unmarried, Under 18 Years:
Legitimate, adopted, and stepchild | 1, 2 | 2 | 2 | 2 | 2.
Children, Unmarried, 18 Years and Over (If entitled above) | 1, 2, 3 | 2, 3 | 2, 3 | 2, 3 | 2, 3.
Notes:
1. Yes, if:
a. Not entitled to Medicare Part A hospital insurance through the SSA.
b. Entitled to Medicare Part A hospital insurance and enrolled in Medicare Part B medical insurance or qualified as an exception in accordance with section 706 of Public Law 111-84.
2. Yes, if
a. Residing with the member at the time of the dependent-abuse offense and not residing with the member while receiving transitional compensation for abused dependents.
b. Married to and residing with the member at the time of the dependent-abuse offense and while receiving transitional compensation for abused dependents.
3. Yes, if:
a. 18 years of age or older and incapable of self-support because of a mental or physical incapacity that existed before the age of 18 and who is (or was when a punitive or other adverse action was carried out on the member) dependent on the member for over one-half of the child's support; or
b. 18 years of age or older, but less than 23 years of age, is enrolled in a full-time course of study in an institution of higher learning approved by the Secretary of Defense and who is (or was when a punitive or other adverse action was carried out on the member) dependent on the member for over one-half of the child's support.

§ 161.19 Benefits for former spouses.

(a) 20/20/20 former spouses. Unremarried former spouses of a uniformed services member or retired member, married to the member or retired member for a period of at least 20 years, during which period the member or retired member performed at least 20 years of service that is creditable in determining the member's or retired member's eligibility for retired or retainer pay, or equivalent pay pursuant to 10 U.S.C. 1408 and 1072(2)(F), and the period of the marriage and the service overlapped by at least 20 years are eligible for benefits as shown in Tables 23 and 24 to part 161. The benefit eligibility period begins on qualifying date of divorce from the uniformed services member.

(1) 20/20/20 former spouses of an active duty, regular retired, or a non-regular retired sponsor at age 60. 20/20/20 former spouses of an active duty, regular retired, or a non-regular retired sponsor at age 60 are eligible for benefits as shown in Table 23 to part 161.

Table 23 to Part 161—Benefits for 20/20/20 Former Spouses of Active Duty, Regular Retired, and Non-Regular Retired Members at Age 60
| CHC | DC | C | MWR | E
Former Spouse:
Unremarried | 1, 2 | 1 | Yes | Yes | Yes.
Remarried | No | No | No | No | No.
Unmarried | No | No | Yes | Yes | Yes.
Notes:
1. Yes, if the former spouse certifies in writing that he or she has no medical coverage under an employer-sponsored health plan.
2. Yes, if:
a. Not entitled to Medicare Part A hospital insurance through the SSA.
b. Entitled to Medicare Part A hospital insurance and enrolled in Medicare Part B medical insurance with the exception of those individuals who qualify in accordance with section 706 of Public Law 111-84.

(2) 20/20/20 former spouses of a national guard, reserve member, or retired reserve member under age 60. (i) In the case of former spouses of National Guard, Reserve, or Retired Reserve members or former members who are entitled to retired pay at age 60, but have not yet reached age 60, the former spouse is only entitled to commissary, MWR, and exchange benefits as shown in Table 24 to part 161. When the Retired Reserve member or former member attains or would have attained, age 60, the former spouse will be entitled to benefits as shown in Table 23 to part 161.

(ii) In the case of former spouses of National Guard members or Reserve members ordered to active duty, or Retired Reserve members under age 60 recalled to active duty, they continue to receive benefits as shown in Table 24 to part 161 if the orders are for a period of 30 days or less. If the National Guard member, Reserve member, or recalled Retired Reserve member is on active duty orders in excess of 30 days, the former spouse will receive benefits as shown in Table 23 to part 161.

Table 24 to Part 161—Benefits for 20/20/20 Former Spouses for Retired Reserve Under Age 60
| CHC | DC | C | MWR | E
Former Spouse:
Unremarried | No | No | Yes | Yes | Yes.
Remarried | No | No | No | No | No.
Unmarried | No | No | Yes | Yes | Yes.

(b) 20/20/15 former spouses. Unremarried former spouses described in paragraph (a)(1) of this section, with the period of overlap of marriage and the member's creditable service at least 15 years, but less than 20 years, are not eligible for the commissary, MWR, or exchange benefits.

(1) 20/20/15 former spouses of an active duty, regular retired, or a non-regular retired sponsor at age 60. 20/20/15 former spouses of an active duty, regular retired, or a non-regular retired sponsor at age 60 are eligible for benefits as shown in Table 25 to part 161.

Table 25 to Part 161—Benefits for 20/20/15 Former Spouses of Active Duty, Regular Retired, and Non-Regular Retired at Age 60
| CHC | DC | C | MWR | E
Former Spouse:
Unremarried | 1, 2, 3 | 1, 3 | No | No | No.
Remarried | No | No | No | No | No.
Unmarried | No | No | No | No | No.
Notes:
1. Yes, if former spouse certifies in writing that he or she has no medical coverage under an employer-sponsored health plan.
2. Yes, if:
a. Not entitled to Medicare Part A hospital insurance through the SSA; or
b. Entitled to Medicare Part A hospital insurance and enrolled in Medicare Part B medical insurance or qualified as an exception in accordance with section 706 of Public Law 111-84.
3. Yes, if the:
a. Final decree of divorce, dissolution, or annulment of the marriage was before April 1, 1985; or
b. Marriage ended on, or after, September 29, 1988, entitlements shall exist for 1 year, beginning on the date of the divorce, dissolution, or annulment pursuant to 10 U.S.C. 1076 and 1072(2)(H).

(2) 20/20/15 former spouses of a retired reserve member under age 60. (i) In the case of former spouses of Retired Reserve members or former members who are entitled to retired pay at age 60, but have not yet reached age 60, the former spouse has no entitlement under age 60. The benefit eligible period is 1 year from the date of divorce. If any period of eligibility extends beyond the Retired Reserve or former member's 60th birthday then the former spouse will receive benefits as shown in Table 25 to part 161 for that period.

(ii) In the case of former spouses of Reserve members or Retired Reserve members under age 60 recalled to active duty on orders for a period of 30 days or less they are not entitled to any benefits as shown in Table 26 to part 161. If the Reserve member or recalled Retired Reserve member is on active duty orders in excess of 30 days, the former spouse will receive benefits as shown in Table 25 to part 161 if they are within 1 year from the date of divorce from the uniformed service member.

Table 26 to Part 161—Benefits for 20/20/15 Former Spouses of a Retired Reserve Member Under Age 60
| CHC | DC | C | MWR | E
Former Spouse:
Unremarried | No | No | No | No | No.
Remarried | No | No | No | No | No.
Unmarried | No | No | No | No | No.

(c) 10/20/10 former spouses. Unremarried former spouses of a member or retired member, married to the member or retired member for a period of at least 10 years to a member or retired member who performed at least 20 years of service that is creditable in determining the member's or retired member's eligibility for retired or retainer pay, when the period of overlap of marriage and the member's creditable service was at least 10 years and the former spouse is in receipt of an annuity as a result of the member being separated from the service due to misconduct involving dependent abuse pursuant to 10 U.S.C. 1408(h), are eligible for benefits as shown in Table 27 to part 161.

Table 27 to Part 161—Benefits for 10/20/10 Former Spouses
| CHC | DC | C | MWR | E
Former Spouse:
Unremarried | 1, 2 | 1, 2 | Yes | Yes | Yes
Remarried | No | No | No | No | No.
Unmarried | 1, 2 | 1, 2 | Yes | Yes | Yes.
Notes:
1. Yes, if:
a. Not entitled to Medicare Part A hospital insurance through the SSA.
b. Entitled to Medicare Part A hospital insurance and enrolled in Medicare Part B medical insurance or qualified as an exception in accordance with section 706 of Public Law 111-84.
2. The spouse must have been married to the uniformed service member for at least 10 years, the uniformed service member must have completed 20 creditable years for retired pay, and they must have been married at least 10 years during the 20 years of creditable service (see § 161.18, paragraph (a)(1)). The uniformed services shall prescribe specific procedures to verify the eligibility of an applicant.

§ 161.20 Benefits for civilian personnel.

(a) Civilian personnel may be eligible for certain benefits described in this section based on their affiliation with DoD, Service-specific guidelines, or other authorizing conditions. The definition of “civilian personnel” (e.g., civilian employee, DoD contractor, Red Cross employee) is specific to each benefit set described.

(1) Civilian personnel in the United States, to include civilian employees of the DoD and other Government agencies, as well as DoD contractors and personnel covered by PL 91-648 (also known and hereinafter referred to as Public Law 91-648, “Intergovernmental Personnel Act” (IPA)), may be issued a DoD ID card as a condition of employment or assignment in accordance with subpart B of this part. Civilian personnel in the United States are eligible for benefits as shown in Table 28 to part 161.

Table 28 to Part 161—Benefits for Civilian Employees in the United States
| CHC | DC | C | MWR | E
Self | No | No | No | 1 | No.
Dependents | No | No | No | No | No.
Note:
1. In accordance with DoD Instruction 1015.10, retired DoD civilian employees are eligible, on a space available basis, to the limited use of MWR facilities based on the discretion of the installation commander.

(2) Civilian personnel required to reside on a military installation within the CONUS, Hawaii, or Alaska and their dependents, when residing in the same household, are eligible for benefits as shown in Table 29 to part 161. For the purposes of this benefit set, “civilian personnel” includes civilian DoD employees and IPA personnel.

Table 29 to Part 161—Benefits for Civilian Personnel and Dependents When Required To Reside on a Military Installation in CONUS, Hawaii, or Alaska
| CHC | DC | C | MWR | E
Self | No | No | 1 | Yes | 2.
Lawful Spouse | No | No | 1 | Yes | 2.
Children, Unmarried, Under 21 Years:
Legitimate, adopted, stepchild, illegitimate child of employee, or illegitimate child of spouse | No | No | 1, 3 | 3 | 2, 3.
Ward | No | No | 1, 3, 4 | 3, 4 | 2, 3, 4.
Pre-adoptive | No | No | 1, 3, 5 | 3, 5 | 2, 3, 5.
Foster Child | No | No | 1, 3 | 3 | 2, 3.
Children, Unmarried, 21 Years and Over | No | No | 1, 6 | 6 | 2, 6.
Father, Mother, Father-in-Law, Mother-in-Law, Stepparent, or Parent-by-Adoption | No | No | 1, 3 | 3 | 2, 3.
Notes:
1. Yes, but commissary privileges do not include the purchase of tobacco products in those States, including the District of Columbia, that impose a tax on such products.
2. Yes, are entitled to limited exchange privileges, which include purchase of all items except uniform articles and State tax-free items.
3. Yes, if dependent on an authorized sponsor for over 50 percent of his or her support.
4. Yes, if, for determination of dependency made on or after July 1, 1994, placed in the legal custody of the member as a result of a court of competent jurisdiction in the United States (or possession of the United States) for a period of at least 12 consecutive months.
5. Yes, if, for determinations of dependency made on or after October 5, 1994, placed in the home of the member by a placement agency (recognized by the Secretary of Defense) or by another source authorized by State or local law to provide adoption placement, in anticipation of the legal adoption by the member.
6. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member and is, dependent on the member or former member for over 50 percent of the child's support.

(3) DoD civilian personnel stationed or employed outside the continental United States (OCONUS) and their accompanying dependents, when residing in the same household, are eligible for benefits as shown in Table 30. For the purposes of this benefit set, “civilian personnel” includes civilian DoD employees, DoD contractors, and IPA personnel. Overseas commanders may never authorize benefits not authorized by this section, but they may deny privileges indicated when base support facilities cannot handle the burden imposed.

Table 30 to Part 161—Benefits for DoD Civilian Personnel Stationed OCONUS and Accompanying Dependents
| CHC | DC | C | MWR | E
Self | No | 1 | Yes | Yes | Yes.
Lawful Spouse | No | 1 | Yes | Yes | Yes.
Children, Unmarried, Under 21 Years:
Legitimate, adopted, stepchild, Illegitimate child of employee, or Illegitimate child of spouse | No | 1, 2 | 2 | 2 | 2.
Ward | No | 1, 2, 3 | 2, 3 | 2, 3 | 2, 3.
Pre-adoptive | No | 1, 2, 4 | 2, 4 | 2, 4 | 2, 4.
Foster Child | No | No | 2 | 2 | 2
Children, Unmarried, 21 Years and Over | No | 1, 5 | 5 | 5 | 5.
Father, Mother, Father-in-Law, Mother-in-Law, Stepparent, or Parent-by-Adoption | No | No | 1, 2 | 2 | 2.
Notes:
1. Yes, on a space-available, fully reimbursable basis. Medical care at uniformed services facilities shall be rendered in accordance with Service instructions. Additional guidelines are contained in DoD Instruction 1100.22 and Volume 1231 of DoD Instruction 1400.25.
2. Yes, if dependent on an authorized sponsor for over 50 percent of his or her support.
3. Yes, if, for determination of dependency made on or after July 1, 1994, placed in the legal custody of the member as a result of a court of competent jurisdiction in the United States (or possession of the United States) for a period of at least 12 consecutive months.
4. Yes, if, for determinations of dependency made on or after October 5, 1994, placed in the home of the member by a placement agency (recognized by the Secretary of Defense) or by another source authorized by State or local law to provide adoption placement, in anticipation of the legal adoption by the member.
5. Yes, if the child:
a. Has not attained the age of 23, is enrolled in a full-time course of study at an institution of higher learning approved by the administering Secretary, and is dependent on the member for over 50 percent of the child's support; or
b.Is incapable of self-support because of a mental or physical incapacity that existed before age 21, or occurred before the age of 23 while a full-time student, while a dependent of a member and is, dependent on the member for over 50 percent of the child's support.

(4) Civilian personnel of non-DoD Government agencies stationed or employed OCONUS, and their dependents, when residing in the same household, are eligible for benefits as shown in Table 31. For the purposes of this benefit set, “civilian personnel” includes civilian employees of non-DoD Government agencies (e.g., Federal employees of the Department of State). Commissary, MWR, and exchange privileges are authorized by overseas commanders to the persons designated in Table 31 when it is within the capability of the facilities and it shall not impair the military mission. Overseas commanders may never authorize benefits beyond those authorized by this section, but they may deny privileges indicated when base support facilities cannot handle the burden imposed.

Table 31 to Part 161—Benefits For Non-DoD Government Agencies Civilian Personnel Stationed or Employed OCONUS and Accompanying Dependents
| CHC | DC | C | MWR | E
Self | No | 1 | Yes | Yes | Yes.
Lawful Spouse | No | 1 | Yes | Yes | Yes.
Children, Unmarried, Under 21 Years:
Legitimate, adopted, stepchild, Illegitimate child of employee, or Illegitimate child of spouse
Ward | No | 1, 2, 3 | 2, 3 | 2, 3 | 2, 3.
Pre-adoptive | No | 1, 2, 4 | 2, 3 | 2, 4 | 2, 4.
Foster Child | No | No | 2 | 2 | 2.
Children, Unmarried, 21 Years and Over | No | 1, 5 | 5 | 5 | 5.
Father, Mother, Father-in-Law, Mother-in-Law, Stepparent, or Parent-by-Adoption | No | 1, 2 | 2 | 2 | 2.
Notes:
1. Yes, on a space-available, fully reimbursable basis. Medical care at uniformed services facilities shall be rendered in accordance with Service instructions. Additional guidelines are contained in DoD Instruction 1100.22 and Volume 1231 of DoD Instruction 1400.25.
2. Yes, if dependent on an authorized sponsor for over 50 percent of his or her support.
3. Yes, if, for determination of dependency made on or after July 1, 1994, placed in the legal custody of the member as a result of a court of competent jurisdiction in the United States (or possession of the United States) for a period of at least 12 consecutive months.
4. Yes, if, for determinations of dependency made on or after October 5, 1994, placed in the home of the member by a placement agency (recognized by the Secretary of Defense) or by another source authorized by State or local law to provide adoption placement, in anticipation of the legal adoption by the member.
5. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member and is, dependent on the member or former member for over 50 percent of the child's support.

(5) Civilian personnel stationed or employed in Puerto Rico or Guam and their dependents, when residing in the same household, are eligible for benefits as shown in Table 32. For the purposes of this benefit set, “civilian personnel” includes civilian DoD employees under a valid transportation agreement, as well as civilian employees of other Government agencies, DoD contractors, and IPA personnel.

Table 32 to Part 161—Benefits for Civilian Personnel Stationed or Employed in Puerto Rico or Guam and Accompanying Dependents
| CHC | DC | C | MWR | E
Self | No | 1 | 2 | Yes | 3.
Lawful Spouse | No | 1 | 2 | Yes | 3.
Children, Unmarried, Under 21 Years:
Legitimate, adopted, stepchild, Illegitimate child of employee or illegitimate child of spouse | No | 1, 4 | 2, 4 | 4 | 3, 4.
Ward | No | 1, 4, 5 | 2, 4, 5 | 4, 5 | 3, 4, 5.
Pre-adoptive | No | 1, 4, 6 | 2, 4, 6 | 4, 6 | 3, 4, 6.
Foster Child | No | No | 2, 4 | 2, 4 | 2, 3, 4.
Children, Unmarried, 21 Years and Over | No | 1, 7 | 2, 7 | 7 | 3, 7.
Father, Mother, Father-in-Law, Mother-in-Law, Stepparent, or Parent-by-Adoption | No | 1, 4 | 2, 4 | 4 | 3, 4.
Notes:
1. Yes, on a space-available, fully reimbursable basis only if residing in a household on a military installation. Additional guidelines are contained in DoD Instruction 1100.22 and Volume 1231 of DoD Instruction 1400.25.
2. In cases where deviations are granted by the Secretary of a Military Department or the Commander of a Combatant Command permitting access to commissary and exchange to non-DoD Federal employees and employees of firms under contract to the U.S. Government, the installation commander shall establish procedures to verify status, maintain databases, and issue appropriate identification.
3. Yes, are entitled to limited exchange privileges, which include purchase of all items except articles of uniform and State tax-free items.
4. Yes, if dependent on an authorized sponsor for over 50 percent of his or her support.
5. Yes, if, for determination of dependency made on or after July 1, 1994, placed in the legal custody of the member as a result of a court of competent jurisdiction in the United States (or possession of the United States) for a period of at least 12 consecutive months.
6. Yes, if, for determinations of dependency made on or after October 5, 1994, placed in the home of the member by a placement agency (recognized by the Secretary of Defense) or by another source authorized by State or local law to provide adoption placement, in anticipation of the legal adoption by the member.
7. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(6) DoD OCONUS hires are foreign nationals in host countries who are employed by U.S. forces, consistent with any agreement with the host country as defined in Volume 1231 of DoD Instruction 1400.25. They are entered into DEERS for the purposes of issuing a CAC and are not eligible for benefits as shown in Table 33 to part 161.

Table 33 to Part 161—Benefits for DoD OCONUS Hires
| CHC | DC | C | MWR | E
Self | No | No | No | No | No.

(7) Uniformed and non-uniformed full-time paid personnel of the Red Cross assigned to duty with the uniformed services within the CONUS, Hawaii, Alaska, and Puerto Rico and their accompanying dependents, when required to reside in the same household on a military installation are eligible for benefits as shown in Table 34 to part 161.

Table 34 to Part 161—Benefits for Full-Time Paid Personnel of the Red Cross Assigned to Duty With the Uniformed Services in CONUS, Hawaii, or Alaska and Required To Reside on a Military Installation and Accompanying Dependents
| CHC | DC | C | MWR | E
Self | No | No | Yes | Yes | 1.
Lawful Spouse | No | No | Yes | Yes | 1.
Children, Unmarried, Under 21 Years:
Legitimate, adopted, stepchild, Illegitimate child of employee, or illegitimate child of spouse | No | No | 2 | 2 | 1, 2.
Ward | No | No | 2, 3 | 2, 3 | 1, 2, 3.
Children, Unmarried, 21 Years and Over | No | No | 4 | 4 | 1, 4.
Father, Mother, Father-in-Law, Mother-in-Law, Stepparent, or Parent-by-Adoption | No | No | 2 | 2 | 1, 2.
Notes:
1. If authorized by installation commander, entitled to exchange privileges.
2. Yes, if dependent on an authorized sponsor for over 50 percent of his or her support.
3. Yes, if, for determination of dependency made on or after July 1, 1994, placed in the legal custody of the member as a result of a court of competent jurisdiction in the United States (or possession of the United States) for a period of at least 12 consecutive months.
5. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(8) Uniformed and non-uniformed full-time paid personnel of the Red Cross assigned to duty with the uniformed services OCONUS and their accompanying dependents, when residing in the same household, are eligible for benefits as shown in Table 35 to part 161.

Table 35 to Part 161—Benefits for Full-Time Paid Personnel of the Red Cross Assigned to Duty With the Uniformed Services OCONUS and Accompanying Dependents
| CHC | DC | C | MWR | E
Self | No | 1 | Yes | Yes | Yes.
Lawful Spouse | No | 1 | Yes | Yes | Yes.
Children, Unmarried, Under 21 Years:
Legitimate, adopted, stepchild, Illegitimate child of employee or illegitimate child of spouse | No | 1, 2 | 2 | 2 | 2.
Ward | No | No | 2, 3 | 2, 3 | 2, 3.
Children, Unmarried, 21 Years and Over | No | 1, 4 | 4 | 4 | 4.
Father, Mother, Father-in-Law, Mother-in-Law, Stepparent, or Parent-by-Adoption | No | 1, 2 | 2 | 2 | 2.
Notes:
1. Yes, on a space-available basis at rates specified in uniformed services instructions. Additional guidelines are contained in DoD Instruction 1100.22 and Volume 1231 of DoD Instruction 1400.25.
2. Yes, if dependent on an authorized sponsor for over 50 percent of his or her support.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(9) Area executives, center directors, and assistant directors of the United Service Organizations (USO) serving OCONUS and their accompanying dependents when residing in the same household are eligible for benefits as shown in Table 36 to part 161.

Table 36 to Part 161—Benefits for Area Executives, Center Directors, and Assistant Directors of the USO and Accompanying Dependents Serving OCONUS
| CHC | DC | C | MWR | E
Self | No | 1 | Yes | Yes | Yes.
Lawful Spouse | No | 1 | Yes | Yes | Yes.
Children, Unmarried, Under 21 Years:
Legitimate, adopted, stepchild, illegitimate child of employee, or illegitimate child of spouse | No | 1, 2 | 2 | 2 | 2.
Ward | No | No | 2, 3 | 2, 3 | 2, 3.
Children, Unmarried, 21 Years and Over | No | 1, 4 | 4 | 4 | 4.
Father, Mother, Father-in-Law, Mother-in-Law, Stepparent, or Parent-by-Adoption | No | 1, 2 | 2 | 2 | 2.
Notes:
1. Yes, on a space-available, fully reimbursable basis. Additional guidelines are contained in DoD Instruction 1100.22 and Volume 1231 of DoD Instruction 1400.25.
2. Yes, if dependent on an authorized sponsor for over 50 percent of his or her support.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(10) USS personnel serving OCONUS and their accompanying dependents, when residing in the same household, are eligible for benefits as shown in Table 37 to part 161.

Table 37 to Part 161—Benefits for USS Personnel Serving OCONUS and Accompanying Dependents
| CHC | DC | C | MWR | E
Self | No | 1 | Yes | Yes | Yes.
Lawful Spouse | No | 1 | Yes | Yes | Yes.
Children, Unmarried, Under 21 Years:
Legitimate, adopted, stepchild, illegitimate child of employee, or illegitimate child of spouse | No | 1, 2 | 2 | 2 | 2.
Ward | No | No | 2, 3 | 2, 3 | 2, 3.
Children, Unmarried, 21 Years and Over | No | 1, 4 | 4 | 4 | 4.
Father, Mother, Father-in-Law, Mother-in-Law, Stepparent, or Parent-by-Adoption | No | 1, 2 | 2 | 2 | 2.
Notes:
1. Yes, on a space-available, fully reimbursable basis. Additional guidelines are contained in DoD Instruction 1100.22 and Volume 1231 of DoD Instruction 1400.25.
2. Yes, if dependent on an authorized sponsor for over 50 percent of his or her support.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(11) MSC civil service Marine personnel deployed OCONUS on MSC-owned and operated vessels are eligible for benefits as shown in Table 38 to part 161.

Table 38 to Part 161—Benefits for MSC Personnel Deployed OCONUS on MSC-Owned and Operated Vessels
| CHC | DC | C | MWR | E
Self | No | 1 | Yes | Yes | 2.
Notes:
1. Yes, on a space-available, fully reimbursable basis.
2. Entitled to limited exchange privileges, which includes purchase of all items except distinctive uniform items and State tax-free items.

(12) Ship's officers and members of the crews of NOAA vessels are eligible for benefits in accordance with 33 U.S.C. 3074 as shown in Table 39. Ship's officers are not commissioned officers, but civilian employees of NOAA.

Table 39 to Part 161—Benefits for Ship's Officers and Members of the Crews of NOAA Vessels
[NOAA Wage Mariner Employees]
| CHC | DC | C | MWR | E
Self | No | No | Yes | Yes | Yes.
Lawful Spouse | No | No | Yes | Yes | Yes.
Children, Unmarried, Under 21 Years:
Legitimate, adopted, stepchild, Illegitimate child of employee, or Illegitimate child of spouse | No | No | 1 | 1 | 1.
Ward | No | No | 1, 2 | 1, 2 | 1, 2.
Pre-adoptive | No | No | 1, 3 | 1, 3 | 1, 3.
Foster Child | No | No | 1 | 1 | 1.
Children, Unmarried, 21 Years and Over | No | No | 4 | 4 | 4.
Father, Mother, Father-in-Law, Mother-in-Law, Stepparent, or Parent-by-Adoption | No | No | 1 | 1 | 1.
Notes:
1. Yes, if dependent on an authorized sponsor for over 50 percent of his or her support or children of a sponsor residing in the household of a former spouse (20-20-20 or 10-20-10).
2. Yes if, for determination of dependency made on or after July 1, 1994, placed in the legal custody of the member as a result of a court of competent jurisdiction in the United States (or possession of the United States) for a period of at least 12 consecutive months.
3. Yes if, for determinations of dependency made on or after October 5, 1994, placed in the home of the member by a placement agency (recognized by the Secretary of Defense) or by another source authorized by State or local law to provide adoption placement, in anticipation of the legal adoption by the member.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(13) Officers and crews of vessels, lighthouse keepers, and depot keepers of the former Lighthouse Service are eligible for benefits as shown in Table 40 to part 161.

Table 40 to Part 161—Benefits for Officers and Crews of Vessels, Lighthouse Keepers and Depot Keepers of the Former Lighthouse Service
| CHC | DC | C | MWR | E
Self | No | No | Yes | Yes | Yes.

(14) Presidential appointees who have been confirmed by the Senate (PASs), non-career and career SES employees, and SES equivalents of the DoD and the Military Services are eligible for benefits as shown in Table 41 to part 161.

Table 41 to Part 161—Benefits for Presidential Appointees
| CHC | DC | C | MWR | E
Self | No | 1 | No | No | No.
Note:
1. Designation for PASs and other designated civilian officials within the DoD and the Military Departments. This is a specific reimbursable care value at the interagency rate outside the National Capital Region.

(15) Contract surgeons overseas during the period of their contract are eligible for benefits as shown in Table 42 to part 161.

Table 42 to Part 161—Benefits for Contract Surgeons Overseas
| CHC | DC | C | MWR | E
Self | No | No | No | Yes | Yes.

(16) State employees of the National Guard may be identified in DEERS for the purpose of issuing a CAC to access DoD networks. There are no benefits assigned and no dependent benefits are extended as shown in Table 43 to part 161.

Table 43 to Part 161—Benefits for State Guard Employees
| CHC | DC | C | MWR | E
Self | No | No | No | No | No.

§ 161.21 Benefits for retired civilian personnel.

(a) Retired DoD civilian employees. Retired appropriated and NAF employees of the DoD are eligible for benefits as shown in Table 44 to part 161.

Table 44 to Part 161—Benefits for Retired DoD Civilian Employees
| CHC | DC | C | MWR | E
Self | No | No | No | 1 | No.
Note:
1. In accordance with DoD Instruction 1015.10, retired DoD civilian employees are eligible, on a space available basis, to the limited use of MWR facilities based on the discretion of the installation commander. The August 26, 2008, USD(P&R) Memorandum, “Department of Defense Civilian Retiree Identification Cards” authorized the issuance of a DoD ID card to this population.

(b) Retired NOAA Wage Mariner employees and their eligible dependents. Retired NOAA Wage Mariners (retired ship's officers and members of the crews of NOAA vessels) are eligible for benefits in accordance with 33 U.S.C. 3074 as shown in Table 45 to part 161.

Table 45 to Part 161—Benefits for Retired NOAA Wage Mariner Employees and Their Eligible Dependents
| CHC | DC | C | MWR | E
Self | No | No | Yes | No | Yes.
Lawful Spouse | No | No | Yes | No | Yes.
Children, Unmarried, Under 21 Years:
Legitimate, adopted, stepchild, illegitimate child of record of female member, or illegitimate child of male member, whose paternity has been judicially determined | No | No | 1 | No | 1.
Ward | No | No | 1, 2 | No | 1, 2.
Pre-adoptive Child | No | No | 1, 3 | No | 1, 3.
Foster Child | No | No | 1 | No | 1.
Children, Unmarried, 21 Years and Over | No | No | 1, 4 | No | 1, 4.
Notes:
1. Yes, if a member of a household maintained by or for an authorized sponsor and dependent on that sponsor for over 50 percent of his or her support. Children residing in the household of a separated spouse continue to be eligible for commissary privileges until there is a final divorce decree. In the case of a divorce, children residing in the household of a former spouse ARE NOT considered to be members of the authorized sponsor's household for commissary privileges.
2. Yes, if, for determinations of dependency made on or after July 1, 1994, placed in the legal custody of the member or former member as a result of a court of competent jurisdiction in the United States (or possession of the United States) for a period of at least 12 consecutive months.
3. Yes, if, for determinations of dependency made on or after October 5, 1994, placed in the home of the member or former member by a placement agency (recognized by the Secretary of Defense) or by another source authorized by State or local law to provide adoption placement, in anticipation of the legal adoption by the member or former member.
4. Yes, if the child:
a. Has not attained the age of 23, is enrolled in a full-time course of study at an institution of higher learning approved by the administering Secretary, and is dependent on the former member for over 50 percent of the child's support; or
b. Is incapable of self-support because of a mental or physical incapacity that existed before age 21, or occurred before the age of 23 while a full-time student, while a dependent of a member or former member, and is dependent on the member or former member for over 50 percent of the child's support.

§ 161.22 Benefits for foreign affiliates.

(a) Sponsored NATO and PFP personnel in the United States. Active duty officer and enlisted personnel of NATO and PFP countries serving in the United States under the sponsorship or invitation of the DoD or a Military Service and their accompanying dependents living in the sponsor's U.S. household are eligible for benefits as shown in Table 46 to part 161.

Table 46 to Part 161—Benefits for Sponsored NATO and PFP Personnel and Accompanying Dependents in the United States
| CHC | DC | C | MWR | E
Self | No | 1 | Yes | Yes | Yes.
Lawful Spouse | 2 | 1 | Yes | Yes | Yes.
Children, Unmarried, Under 21 Years:
Legitimate, adopted, stepchild Illegitimate child of member, or Illegitimate child of spouse | 2, 3 | 1, 3 | 3 | 3 | 3.
Ward | No | No | 3, 4 | 3, 4 | 3, 4.
Children, Unmarried, 21 Years and Over | 2, 3, 5 | 1, 3, 5 | 1, 5 | 1, 5 | 1, 5.
Father, Mother, Father-in-Law, Mother-in-Law, Stepparent, or Parent by Adoption | No | No | 3 | 3 | 3.
Notes:
1. Yes, for outpatient care no charge and for inpatient care at full reimbursable rate.
2. Yes, for outpatient care only.
3. Yes, if residing in the household of the foreign service member in the United States.
4. Yes, if, for determination of dependency made on or after July 1, 1994, placed in the legal custody of the member as a result of a court of competent jurisdiction in the United States (or possession of the United States) for a period of at least 12 consecutive months.
5. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(b) Sponsored non-NATO personnel in the United States. Active duty officer and enlisted personnel of non-NATO countries serving in the United States under DoD or Service sponsorship or invitation and their dependents, living in the non-NATO personnel's U.S. household, are eligible for benefits as shown in Table 47 to part 161.

Table 47 to Part 161—Benefits for Sponsored Non-NATO Personnel and Accompanying Dependents in the United States
| CHC | DC | C | MWR | E
Self | No | 1 | Yes | Yes | Yes.
Lawful Spouse | No | 1 | Yes | Yes | Yes.
Children, Unmarried, Under 21 Years:
Legitimate, adopted, stepchild, illegitimate child of member, or illegitimate child of spouse | No | 1, 3 | 2 | 2 | 2.
Ward | No | No | 2, 3 | 2, 3 | 2, 3.
Children, Unmarried, 21 Years and Over | No | 1, 2, 4 | 2, 4 | 2, 4 | 2, 4.
Father, Mother, Father-in-Law, Mother-in-Law, Stepparent, or Parent by Adoption | No | No | 2 | 2 | 2.
Notes:
1. Yes, for outpatient care only on a reimbursable basis.
2. Yes, if residing in the household of the foreign service member in the United States.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(c) Non-sponsored NATO personnel in the United States. Active duty officer and enlisted personnel of NATO countries who, in connection with their official NATO duties, are stationed in the United States but are not under DoD or Service sponsorship and their accompanying dependents living in the non-sponsored NATO personnel's U.S. household are eligible for benefits as shown in Table 48 to part 161.

Table 48 to Part 161—Benefits for Non-Sponsored NATO and PFP Personnel in the United States and Accompanying Dependents
| CHC | DC | C | MWR | E
Self | No | 1 | No | Yes | Yes.
Lawful Spouse | 2 | 1 | No | No | No.
Children, Unmarried, Under 21 Years:
Legitimate, adopted, stepchild, illegitimate child of member, or illegitimate child of spouse | 2, 3 | 1, 3 | No | No | No.
Ward | No | No | No | No | No.
Children, Unmarried, 21 Years and Over | 2, 3, 4 | 1, 3, 4 | No | No | No.
Father, Mother, Father-in-Law, Mother-in-Law, Stepparent, or Parent by Adoption | No | No | No | No | No.
Notes:
1. Yes, for outpatient care no charge and for inpatient care at full reimbursable rate.
2. Yes, for outpatient care only.
3. Yes, if residing in the household of the foreign service member in the United States.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.

(d) NATO and non-NATO personnel OCONUS. Active duty officer and enlisted personnel of NATO and non-NATO countries serving OCONUS and outside their own country under DoD or Service sponsorship or invitation and their accompanying dependents living with the sponsor are eligible for benefits as shown in Table 49 to part 161. These benefits may be extended to this category of personnel not under DoD or Service sponsorship or invitation when it is determined by the major overseas commander that the granting of such privileges is in the best interests of the United States and such personnel are connected with, or their activities are related to, the performance of functions of the Service establishment.

Table 49 to Part 161—Benefits for NATO, PFP, and Non-NATO Personnel OCONUS and Accompanying Dependents
| CHC | DC | C | MWR | E
Self | No | 1 | Yes | Yes | Yes.
Lawful Spouse | No | 1 | Yes | Yes | Yes.
Children, Unmarried, Under 21 Years:
Legitimate, adopted, stepchild, illegitimate child of member, or illegitimate child of spouse | No | 1, 2 | 2 | 2 | 2.
Ward | No | No | 2, 3 | 2, 3 | 2, 3.
Children, Unmarried, 21 Years and Over | No | 1, 2, 3 | 2, 4 | 2, 4 | 2, 4.
Father, Mother, Father-in-Law, Mother-in-Law, Stepparent, or Parent by Adoption | No | No | 2 | 2 | 2.
Notes:
1. Yes, for outpatient care only on a reimbursable basis.
2. Yes, if residing in the household of the foreign service member and dependent on over 50 percent support.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support

(e) Korean Augmentation to the U.S. Army (KATUSA). Military service is mandatory for all Republic of Korea (ROK) male citizens. Those male citizens who speak English often become KATUSA serving with the U.S. Army forces in the ROK. This arrangement is provided for in the status of forces agreement between the United States and ROK. The KATUSAs are identified in DEERS for the purpose of issuing CACs for access to the U.S. installations in the ROK. No other benefits are provided as shown in Table 50 to part 161.

Table 50 to Part 161—Benefits for KATUSA
| CHC | DC | C | MWR | E
Self | No | No | No | No | No.

(f) Foreign national civilians. Civilian employees of a foreign government who are assigned a support role with the DoD or Military Services or attending school at one of the DoD or uniformed services advanced schools may be identified in DEERS for the purpose of issuing a CAC. The foreign national civilian must be sponsored by the DoD or a Military Service regardless of whether the foreign national civilian is from a NATO, PFP, or non-NATO country. There are no benefits assigned and no dependent benefits are extended as shown in Table 51 to part 161.

Table 51 to Part 161—Benefits for Foreign National Civilians
| CHC | DC | C | MWR | E
Self | No | No | No | No | No.

(g) Foreign National Contractors. Contractor personnel, contracted to a foreign government, who are assigned a support role with the DoD or Military Services or as a representative of a foreign government at one of the DoD or uniformed services advanced schools may be identified in DEERS for the purpose of issuing a CAC for physical and logical access requirements. The foreign national contractor must be sponsored by the DoD or a Military Service regardless of whether the foreign national civilian is from a NATO, PFP, or a non-NATO country. There are no benefits assigned and no dependent benefits are extended as shown in Table 52 to part 161.

Table 52 to Part 161—Benefits for Foreign National Contractors
| CHC | DC | C | MWR | E
Self | No | No | No | No | No.

(h) Personnel Covered by a Reciprocal Health Care Agreement (RHCA) in the United States. For countries that have bilateral RHCAs with the DoD, RHCAs provide that a limited number of foreign force members and their dependents in the United States may be provided inpatient medical care at MTFs on a space-available basis without cost (except for a subsistence charge, if it applies). Provision of such care is contingent on comparable care being made available to a comparable number of U.S. military personnel and their dependents in the foreign country. Benefits are provided as shown in Table 53 to part 161.

Table 53 to Part 161—Benefits for Foreign Force Members and Eligible Dependents Residing in the United States Who Are Covered by an RHCA
| CHC | DC | C | MWR | E
Self | No | 1 | 5 | 6 | 7.
Lawful Spouse | No | 1 | 5 | 6 | 7.
Children, Unmarried, Under 21 Years:
Legitimate, adopted, stepchild, illegitimate child of member, or illegitimate child of spouse | No | 1, 2 | 2 | 2 | 2.
Ward | No | No | 2, 3 | 2, 3 | 2, 3.
Children, Unmarried, 21 Years and Over | No | 1, 2, 4 | 2, 4 | 2, 4 | 2, 4.
Father, Mother, Father-in-Law, Mother-in-Law, Stepparent, or Parent by Adoption | No | No | 2 | 2 | 2.
Notes:
1. As determined by the appropriate RHCA.
2. Yes, if residing in the household of the foreign force member in the United States.
3. Yes, if, for determination of dependency made on or after July 1, 1994, placed in the legal custody of the member as a result of a court of competent jurisdiction in the United States (or possession of the United States) for a period of at least 12 consecutive months.
4. Yes, if the child:
a. Has not attained the age of 23, is enrolled in a full-time course of study at an institution of higher learning approved by the administering Secretary, and is dependent on the member for over 50 percent of the child's support; or
b. Is incapable of self-support because of a mental or physical incapacity that existed before age 21, or occurred before the age of 23 while a full-time student, while a dependent of a member, and is dependent on the member for over 50 percent of the child's support.
5. Yes, if authorized by DoD Instruction 1330.17.
6. Yes, if authorized by DoD Instruction 1015.10.
7. Yes, if authorized by DoD Instruction 1330.21.

Dated: December 19, 2013.
Aaron Siegel,
Alternate OSD Federal Register Liaison Officer, Department of Defense.

[FR Doc. 2013-30620 Filed 1-3-14; 8:45 am]

BILLING CODE 5001-06-P